DEPARTMENT OF HEALTH AND HUMAN SERVICES

Administration for Children and Families

Privacy Act of 1974; System of Records Notice

AGENCY: Administration for Children and Families (ACF), Department of Health and Human Services (HHS).

ACTION: Notice of new, amended, and deleted Privacy Act systems of records.

SUMMARY: In accordance with the requirements of the Privacy Act of 1974, as amended (5 U.S.C. 552a), the Administration for Children and Families is publishing notice of a republication multiple systems of records, including amendments to existing systems, establishment of new systems, and deletion of obsolete systems.

DATES: Effective: This Notice will become effective 30 days after publication, unless the Administration for Children and Families makes changes based on comments received. Written comments should be submitted on or before the effective date.

ADDRESSES: The public should address written comments to: Gary Cochran, Senior Agency Officer for Privacy, Administration for Children and Families, 901 D St. SW., 3rd Floor Washington, DC 20024; Email: gary.cochran@acf.hhs.gov.

FOR FURTHER INFORMATION CONTACT: The following contact persons can answer questions about the system of records notices (SORNs) for systems maintained in these offices within the Administration for Children and Families:

FYSB—Family and Youth Services Bureau

FYSB Research and Evaluation Project Records—Kim Franklin, Administration for Children and Families, 901 D St. SW., 7th Floor, Washington, DC 20024; Email: kim.franklin@acf.hhs.gov.

OPRE—Office of Planning, Research and Evaluation

OPRE Research and Evaluation Project Records—Naomi Goldstein, Privacy Officer, Administration for Children and Families, 901 D St. SW., Washington, DC 20024; Email: naomi.goldstein@acf.hhs.gov.

OFA—Office of Family Assistance

OFA Tribal Temporary Assistance for Needy Families—Felicia Gaither, Privacy Officer, Administration for Children and Families, 901 D St. SW., Washington, DC 20024; Email: Felicia.gaither@acf.hhs.gov.

OFA Temporary Assistance for Needy Families (non-Tribal)—Dennis Poe, Privacy Officer, Administration for Children and Families, 901 D St. SW., Washington, DC 20024; Email: dennis.poe@acf.hhs.gov.

OCC—Office of Child Care

OCC Federal Child Care Monthly Case Records—Joe Gagnier, Privacy Officer, Administration for Children and Families, 901 D St. SW., Washington, DC 20024; Email: joseph.gagnier@acf.hhs.gov.

OCSE—Office of Child Support Enforcement

All OCSE Systems—Linda Deimeke, Privacy Officer, Administration for Children and Families, 901 D St. SW., 4th Floor, Washington, DC 20024; Email: linda.deimeke@acf.hhs.gov.

SUPPLEMENTARY INFORMATION:

I. Explanation of Changes

The Administration for Children and Families (ACF) within the Department of Health and Human Services (HHS) is republishing multiple of its Privacy Act Systems of Records Notices (SORNs). The republication includes establishment of four new systems, alteration of five existing systems, and deletion of five obsolete systems. The following summary identifies each system and describes generally the effect of the republication on that system.

A. Four New Systems Established

ACF is proposing to establish the following new systems of records; the republication includes SORNs for these new systems:

(1) 09-80-0341 FYSB Research and Evaluation Project Records, HHS/ACF/FYSB

(2) 09-80-0361 OPRE Research and Evaluation Project Records, HHS/ACF/OPRE

(3) 09-80-0371 OCC Federal Child Care Monthly Case Records, HHS/ACF/OCC

(4) 09-80-0373 OFA Tribal Temporary Assistance for Needy Families (Tribal TANF) Data System, HHS/ACF/OFA.

B. Five Existing Systems Revised

ACF is proposing to alter the following five existing systems of records; this republication includes revised SORNs with the following changes for these systems:

(1) 09-90-0151 OFA Temporary Assistance for Needy Families (TANF) Data System, HHS/ACF/OFA

(Last published 6/16/04 at 69 FR 33644)—The revised SORN:

• Changes the SORN number to 09-80-0375;

• Updates the System Location section;

• adds data elements to the Categories of Records section (work-eligible individual indicator, number of deemed core hours for overall rate, and number of deemed core hours for the two-parent rate) and removes certain other data elements;

• updates the Authority section;

• adds explanatory information to the Purpose(s) section, after the three purposes listed;

• in the Routine Uses section, removes an unnecessary routine use pertaining to disclosures of non-identifiable data, renumbers the remaining routine use as 1, and adds new routine uses at 2 through 11; and

• Shortens the Safeguards section to link to HHS' information security policies instead of describing them.

(2) 09-80-0381 OCSE National Directory of New Hires, HHS/ACF/OCSE

(Last published 1/5/11 at 76 FR 559)—The revised SORN:

• Updates the system and storage locations;

• adds two new categories of individuals (4 and 5) to the Categories of Individuals section;

• in the Categories of Records section, adds two new data elements to record category 2 (date of hire and Department of Defense status code), adds one new data element to record category 4 (wage and unemployment compensation records obtained from the Department of Labor), and adds two new record categories (5 and 6);

• updates the Authority section;

• in the Routine Uses section, revises the law enforcement routine use to make it applicable to criminal nonsupport, merges the routine use for disclosures to a court or adjudicative body into the routine use for disclosures to the Department of Justice (DOJ), and adds a routine use for disclosures to a Congressional office;

• lists additional identifiers used for retrieval (state FIPS codes, employer identification numbers), and adds new retention periods (for input records for authorized matching, records pertaining to income withholding, and audit logs), in the Policies and Practices Section; and

• Lists additional record sources (entities authorized to match, employers and other income sources).

(3) 09-80-0383 OCSE Debtor File, HHS/ACF/OCSE

(Last published 1/5/11 at 76 FR 559)—The revised SORN:

• Expands the Categories of Individuals section to include individuals whose records are in input files for matching;

• updates the Categories of Records section to:

○ add data elements to category 2 (income and benefits information, and information pertaining to collection of amounts by state child support enforcement agencies) and category 3 (amounts withheld from a financial institution account, date of withholding, and information pertaining to placement of a lien or levy on an account),

○ add a category for workers' compensation payment records, numbered as 4,

○ revise and renumber the category pertaining to insurer records (formerly 4, now 5), and

○ add a category for income and benefit records from other entities authorized to provide information, numbered as 6.

• updates the Authority section;

• shortens the opening sentence in the Purpose(s) section and expands the description to include additional purposes (aid transmission of information pertaining to lien or levy of financial institution accounts, compare income and benefits information, furnish results of data matches to state agencies, and improve states' abilities to collect);

• in the Routine Uses section:

○ revises routine use 3 to describe additional information that may be disclosed to a financial institution (information pertaining to a request for a lien or levy),

○ adds a new routine use 5 for disclosures to workers' compensation agencies,

○ renumbers former routine use 5 (regarding the Debt Collection Improvement Act) as routine use 6 and revises the heading,

○ renumbers former routine use 6 as routine use 7, revises the heading, and describes additional information that may be disclosed to a state agency (information pertaining to a request for a lien or levy),

○ renumbers former routine use 7 as 8,

○ adds new routine uses 9 and 10 for disclosure of workers' compensation information and income and benefits information to state agencies,

○ limits the law enforcement routine use (formerly 8, now 11) to disclosures pertaining to criminal nonsupport,

○ merges the routine use for disclosures to a court or adjudicative body into the routine use for disclosures to DOJ (formerly 9 and 10, now 12),

○ revises the heading of the contractor routine use (formerly 11, now 13), and

○ adds new routine use 14 for disclosures to a Congressional office; and

• in the Policies and Practices section,

○ lists additional identifiers used for retrieval (FEIN of the financial institution, state FIPS code, Taxpayer Identification Number (TIN), and state child support case identification number), and

○ updates the descriptions of the retention periods, shortens the retention period for financial institution and insurer records from one year to 60 days, adds a one-year retention period for a copy of records matched, and removes the retention period for extracts disclosed for routine uses.

(4) 09-80-0202 OCSE Federal Case Registry of Child Support Orders (FCR), HHS/ACF/OCSE

(Last published 1/5/11 at 76 FR 559)—The revised SORN:

• Changes the SORN number to 09-80-0385;

• updates the system and storage locations;

• expands the Categories of Individuals section to include individuals whose information is collected and/or disseminated through the system as part of authorized technical assistance or matching, and individuals involved in a state IV-E foster care and adoption assistance program;

• in the Categories of Records section:

○ revises the explanation of the locate request process,

○ lists additional record types (judicial or administrative orders, subpoenas, affidavits, financial statements, medical support notices, notices of a lien, and income withholding notices), and

○ includes “state” with “federal agencies” in one record description;

• updates the Authority section;

• in the Routine Uses section:

○ cites the statutory definition of “authorized person” in routine uses 1, 2 and 3 instead of quoting it,

○ limits the law enforcement routine use to disclosures pertaining to criminal nonsupport,

○ merges the routine use for disclosures to a court or adjudicative body into the routine use for disclosures to DOJ,

○ adds a routine use for disclosures to a Congressional office, and

○ revises the heading of the contractor routine use;

• in the Policies and Practices section,

○ lists additional identifiers used for retrieval (taxpayer identification number (TIN), transaction serial number, name and date of birth),

○ removes unnecessary wording from retention period (1),

○ adds match result records to retention period (2)(a) and removes the retention period formerly listed as (2)(c),

○ revises retention period (5), and

○ adds a new retention period (6);

• removes an unnecessary sentence (about filtering redundant data) from the Record Source Categories: section; and

• provides a more complete explanation of the exemptions claimed for the system, in the Exemptions section.

(5) 09-80-0387 Federal Parent Locator Service Child Support Services Portal, HHS/ACF/OCSE

(Last published 7/21/10 at 75 FR 42453)—The revised SORN:

• Updates the system and storage locations;

• updates the Authority section; and

• in the Routine Uses section,

○ adds introductory paragraphs and headings,

○ merges the routine use for disclosures to a court or adjudicative body into the routine use for disclosures to DOJ, and

○ adds a routine use for disclosures to a Congressional office.

C. Three Obsolete Systems Deleted

ACF is deleting three systems because they are obsolete:

(1) 09-80-0100 Records Maintained on Individuals for Program Evaluative Purposes Under Contract, HHS/HDS

(Last published 12/30/86 at 51 FR 47061)—No longer exists

(2) 09-80-0201 Income and Eligibility Verification for Aid to Families With Dependent Children Quality Control (AFDC-QC) Reviews, HHS/ACF/OFA

(Last published 6/4/93 at 58 FR 31715)—No longer exists

(3) 09-90-0150 Research and Demonstration Data System, HHS/OCSE

(Last published 1/24/85 at 50 FR 3412)—No longer exists

II. The Privacy Act

The Privacy Act (5 U.S.C. 552a) governs the means by which the United States Government collects, maintains, and uses personally identifiable information (PII) in a system of records. A “system of records” is a group of any records under the control of a Federal agency from which information about individuals is retrieved by name or other personal identifier. The Privacy Act requires each agency to publish in the Federal Register a system of records notice (SORN) identifying and describing each system of records the agency maintains, including the purposes for which the agency uses PII in the system, the routine uses for which the agency discloses such information outside the agency, and how individual record subjects can exercise their rights under the Privacy Act to determine if the system contains information about them, to seek access to records about them, and to contest inaccurate information about them.

Dated: March 26, 2015.
Michael Curtis,
Director, Office of Information Services, Administration for Children and Families.

A. The following three systems of records are deleted:

(1) 09-80-0100 Records Maintained on Individuals for Program Evaluative Purposes Under Contract, HHS/HDS

(2) 09-80-0201 Income and Eligibility Verification for Aid to Families With Dependent Children Quality Control (AFDC-QC) Reviews, HHS/ACF/OFA

(3) 09-90-0150 Research and Demonstration Data System, HHS/OCSE

B. New SORNs are published for four new systems of records, as follows:

System Number: 09-80-0341

System Name:

FYSB Research and Evaluation Project Records, HHS/ACF/FYSB

Security Classification:

Unclassified

System Location:

Research and Evaluation Division, Family and Youth Services Bureau (FYSB), Administration for Children and Families (ACF), Department of Health and Human Services (HHS), Portals Building, Suite 800, 1250 Maryland Avenue SW., Washington, DC. A list of contractor sites where individually identifiable data are currently located is available upon request to the system manager.

Categories of Individuals Covered by the System:

FYSB research and evaluation projects may cover any program, activity, or function of FYSB, including but not limited to Runaway and Homeless Youth Programs, Transitional Living Program, Maternity Group Homes Program, Street Outreach Program, Mentoring Children of Prisoners Program, Family Violence Programs, Abstinence Education Programs, and other existing and future programs. Records in this system may be about any individual who participates in a FYSB-sponsored program as a service recipient or service provider. For some programs, the records may include information about family members of program participants.

Categories of Records in the System:

Information about program participants including their identities, addresses, occupations, professions, school or job performances, health status, test scores, and other categories of information relevant to the evaluation of a particular program.

Authority for Maintenance of the System:

Runaway and Homeless Youth Act (42 U.S.C. 5701 et seq.); Child and Family Services Improvement Act (Pub. L. 109-288); Promoting Safe and Stable Families Act (42 U.S.C. 629 et seq.); Program for Abstinence Education (42 U.S.C. 710); Keeping Children and Families Safe Act (42 U.S.C. 5101).

Purpose(s):

The Family and Youth Services Bureau in the Administration for Children and Families (ACF) is responsible for advising the Commissioner on Administration on Children, Youth, and Families on increasing the effectiveness and efficiency of FYSB programs. This system of records may contain personal information subject to the Privacy Act of 1974 that is produced by FYSB research and evaluation projects. Only projects that involve the retrieval of records by personal identifier are subject to the Privacy Act of 1974 and are covered by this system. The procedures for the collection of information about research subjects in FYSB's evaluation projects are reviewed, as appropriate, by Institutional Review Boards, are subject to HHS regulations on research with human subjects, including requirements for informed consent.

Routine Uses of Records Maintained in the System, Including Categories of Users and the Purposes of Such Uses:

These routine uses specify circumstances, in addition to those provided by statute in the Privacy Act of 1974, 5 U.S.C. 552a(b), under which HHS may release information from this system of records without the consent of the data subject. Each proposed disclosure of information under these routine uses will be evaluated to ensure that the disclosure is legally permissible, including but not limited to ensuring that the purpose of the disclosure is compatible with the purpose for which the information was collected. For any project that has received a certificate of confidentiality, none of these routine uses shall be read to authorize a disclosure that would not be allowed by the terms of the certificate of confidentiality. In addition, contractors may be restricted by contract from making a disclosure allowed as a routine use or by law without the consent of HHS, of the data subject, or both, unless the disclosure is required by law.

(1) Disclosure for Law Enforcement Purposes.

Information may be disclosed to the appropriate Federal, State, local, tribal, or foreign agency responsible for investigating, prosecuting, enforcing, or implementing a statute, rule, regulation, or order, if the information is relevant to a violation or potential violation of civil or criminal law or regulation within the jurisdiction of the receiving entity. However, because this is a research and evaluation system, no information will be disclosed for use in any investigation, prosecution, or other action targeted against any individual who is the subject of the record.

(2) Disclosure Incident to Requesting Information.

Information may be disclosed (to the extent necessary to identify the individual, inform the source of the purpose of the request, and to identify the type of information requested), to any source from which additional information is requested when necessary to obtain information relevant to the research or evaluation being conducted.

(3) Disclosure to Congressional Office.

Information may be disclosed to a congressional office from the record of an individual in response to a written inquiry from the congressional office made at the request of the individual.

(4) Disclosure to Department of Justice or in Proceedings.

• Information may be disclosed to the Department of Justice, or in a proceeding before a court, adjudicative body, or other administrative body before which HHS is authorized to appear, when:

• HHS, or any component thereof; or

• Any employee of HHS in his or her official capacity; or

• Any employee of HHS in his or her individual capacity where the Department of Justice or HHS has agreed to represent the employee; or

• The United States, if HHS determines that litigation is likely to affect HHS or any of its components, is a party to litigation or has an interest in such litigation, and the use of such records by the Department of Justice or HHS is deemed by HHS to be relevant and necessary to the litigation, provided, however, that in each case it has been determined that the disclosure is compatible with the purpose for which the records were collected.

(5) Disclosure to Contractor.

Information may be disclosed to a contractor performing or working on a contract for HHS and who have a need to have access to the information in the performance of their duties or activities for HHS.

(6) Disclosures for Administrative Claims, Complaints, and Appeals.

Information from this system of records may be disclosed to an authorized appeal grievance examiner, formal complaints examiner, equal employment opportunity investigator, arbitrator or other person properly engaged in investigation or settlement of an administrative grievance, complaint, claim, or appeal filed by an employee, but only to the extent that the information is relevant and necessary to the proceeding. Agencies that may obtain information under this routine use include, but are not limited to, the Office of Personnel Management, Office of Special Counsel, Merit Systems Protection Board, Federal Labor Relations Authority, Equal Employment Opportunity Commission, and Office of Government Ethics.

(7) Disclosure in Connection With Litigation.

Information from this system of records may be disclosed in connection with litigation or settlement discussions regarding claims by or against HHS, including public filing with a court, to the extent that disclosure of the information is relevant and necessary to the litigation or discussions and except where court orders are otherwise required under section (b)(11) of the Privacy Act of 1974, 5 U.S.C. 552a(b)(11).

(8) Disclosure in the Event of a Security Breach.

Information may be disclosed to appropriate federal agencies and Department contractors that have a need to know the information for the purpose of assisting the Department's efforts to respond to a suspected or confirmed breach of the security or confidentiality of information maintained in this system of records, provided the information disclosed is relevant and necessary for that assistance.

Disclosure to Consumer Reporting Agencies:

None.

Policies and Practices for Storing, Retrieving, Accessing, Retaining, and Disposing of Records in the System:

Storage:

Depending on the project, records may be stored on paper or other hard copy, computers, and networks.

Retrievability:

Depending on the project, records may be retrieved by name, code, or other unique identifier. In some cases, individuals may be assigned identifiers specific to a project or series of projects.

Safeguards:

All contractors or other record keepers are required to maintain appropriate administrative, technical, and physical safeguards to ensure the security and confidentiality of records. Records are secured in compliance with Federal requirements, including the Federal Information Security Management Act, HHS Security Program Policy, and any applicable requirements for the encryption of personal data.

Retention and Disposal:

Identifiers are removed once the evaluation is complete.

System Manager and Address:

Director, Research and Evaluation Division, Family and Youth Services Bureau, Administration for Children and Families, Department of Health and Human Services, Portals Building, Suite 800, 1250 Maryland Avenue SW., Washington, DC 20024.

Notification Procedures:

Individuals seeking to determine whether this system of records contains information about themselves should address written inquiries to the System Manager. The request should include the name, telephone number and/or email address, and address of the individual, and the request must be signed. The requester's letter must provide sufficient particulars to enable the System Manager to distinguish between records on subject individuals with the same name since FYSB does not maintain Social Security Numbers (SSN) or other standard unique identifiers. The requester should try to name or describe the project that maintains the information being requested. Verification of identity as described in HHS's Privacy Act regulations may be required. 45 CFR 5b.5.

Record Access Procedures:

Individuals seeking to determine whether this system of records contains information about themselves should address written inquiries to the System Manager. The request should include the name, telephone number and/or email address, and address of the individual, and the request must be signed. The requester's letter must provide sufficient particulars to enable the System Manager to distinguish between records on subject individuals with the same name since FYSB does not maintain SSNs or other standard unique identifiers. The requester should try to name or describe the project that maintains the information being requested. Verification of identity as described in HHS's Privacy Act regulations may be required. 45 CFR 5b.5

Contesting Record Procedures:

Individuals seeking to amend a record about themselves in this system of records should address the request for amendment to the System Manager. The request should (1) include the name, telephone number and/or email address, and address of the individual, and should be signed; (2) identify the system of records that the individual believes includes his or her records or otherwise provide enough information to enable the identification of the individual's record; (3) identify the information that the individual believes in not accurate, relevant, timely, or complete; (4) indicate what corrective action is sought; and (5) include supporting justification or documentation for the requested amendment. The requester's letter must provide sufficient particulars to enable the System Manager to distinguish between records on subject individuals with the same name since FYSB does not maintain SSNs or other standard unique identifiers. The requester should try to name or describe the project that maintains the information being requested. Verification of identity as described in HHS's Privacy Act regulations may be required. 45 CFR 5b.5

Record Source Categories:

Records in this system may be obtained from the record subject; programs funded by FYSB; existing programs operated by federal and state agencies; third party information sources that may include a record subject's relatives, neighbors, friends, employers, and health care providers; and available commercial and governmental data sources.

Exemptions Claimed for the System:

None.

System Number: 09-80-0361

System Name:

OPRE Research and Evaluation Project Records, HHS/ACF/OPRE

Security Classification:

Unclassified

System Location:

Office of Planning, Research and Evaluation (OPRE), Administration for Children and Families (ACF), Department of Health and Human Services (HHS), 370 L'Enfant Promenade, SW., Washington, DC. A list of contractor sites where records under this system are maintained is available upon request to the system manager.

Categories of Individuals Covered by the System:

OPRE research and evaluation projects may cover any program, activity, or function of ACF. ACF programs aim to achieve the following: To support and assist low-income families and individuals to increase their own economic independence and self-sufficiency; to increase strong, healthy, supportive communities that have a positive impact on the quality of life and the development of children; and to enter into partnerships with states, communities, American Indian tribes, Native communities, and social service entities that support the development of low-income families and children. These partnerships include services to improve support to people with developmental disabilities, refugees, and migrants to address their needs, strengths, and abilities.

Records in this system may be about any individual who participates in an ACF/OPRE-sponsored research demonstration. For some projects, the records may include information about family members of service recipients and program participants.

Categories of Records in the System:

The specific types of records collected and maintained are determined by the needs of each research and evaluation project. Typical projects will collect some or all of these records: Name; address; telephone number and other contact information; Social Security Number (SSN); demographic information, including race and ethnicity; date of birth; income; pre-school/Head Start participation; child care utilization; marriage and family status information; health information; income; employment information; child welfare system experiences; citizenship, etc.

Authority for Maintenance of the System:

Section 413 of the Social Security Act (42 U.S.C. 613); Section 1110 of the Social Security Act (42 U.S.C. 1310); Improving Head Start for School Readiness Act of 2007 (42 U.S.C. 9836) [Pub. L. 110-134, Section 641(c)(2)]; Child Care and Development Block Grant Act of 1990 (42 U.S.C. 9858 et seq.) and Consolidated Appropriations Act of 2008 (Pub. L. 110-161, Division G, Title II, Payments to States for the Child Care and Development Block Grant); Section 429A of the Social Security Act (42 U.S.C. 628b), as added by the Personal Responsibility and Work Opportunities Reconciliation Act.

Purpose(s):

The Office of Planning, Research and Evaluation (OPRE) in the Administration for Children and Families (ACF) is responsible for advising the Assistant Secretary for Children and Families on increasing the effectiveness and efficiency of programs to improve the economic and social well-being of children and families. In collaboration with ACF program offices and others, OPRE is responsible for performance management for ACF, conducts research and policy analyses, and develops and oversees research and evaluation projects to assess program performance and inform policy and practice. This system of records contains personal information subject to the Privacy Act of 1974 that is used in OPRE research and evaluation projects. Only projects that involve the retrieval of records by personal identifier are subject to the Privacy Act of 1974 and are covered by this system. The procedures for the collection of information about research subjects in OPRE's evaluation projects are reviewed, as appropriate, by Institutional Review Boards, are subject to HHS regulations on research with human subjects, including requirements for informed consent.

Routine uses of records maintained in the system, including categories of users and the purposes of such uses:

These routine uses specify circumstances, in addition to those provided by statute in the Privacy Act of 1974, under which ACF may release information from this system of records without the consent of the data subject. Each proposed disclosure of information under these routine uses will be evaluated to ensure that the disclosure is legally permissible, including but not limited to ensuring that the purpose of the disclosure is compatible with the purpose for which the information was collected. For any project that has received a certificate of confidentiality, none of these routine uses shall be read to authorize a disclosure that would not be allowed by the terms of the certificate of confidentiality. In addition, contractors may be restricted by contract from making a disclosure allowed as a routine use or by law without the consent of HHS, of the data subject, or both, unless the disclosure is required by law.

(1) Disclosure for Law Enforcement Purpose.

Information may be disclosed to the appropriate Federal, State, local, tribal, or foreign agency responsible for investigating, prosecuting, enforcing, or implementing a statute, rule, regulation, or order, if the information is relevant to a violation or potential violation of civil or criminal law or regulation within the jurisdiction of the receiving entity. However, because this is a research and evaluation system, no information will be disclosed for use in any investigation, prosecution, or other action targeted against any individual who is the subject of the record.

(2) Disclosure Incident to Requesting Information.

Information may be disclosed (to the extent necessary to identify the individual, inform the source of the purpose of the request, and to identify the type of information requested), to any source from which additional information is requested when necessary to obtain information relevant to the research or evaluation being conducted.

(3) Disclosure to Congressional Office.

Information may be disclosed to a congressional office from the record of an individual in response to a written inquiry from the congressional office made at the request of the individual.

(4) Disclosure to Department of Justice or in Proceedings.

Information may be disclosed to the Department of Justice, or in a proceeding before a court, adjudicative body, or other administrative body before which HHS is authorized to appear, when:

• HHS, or any component thereof; or

• Any employee of HHS in his or her official capacity; or

• Any employee of HHS in his or her individual capacity where the Department of Justice or HHS has agreed to represent the employee; or

• The United States, if HHS determines that litigation is likely to affect HHS or any of its components, is a party to litigation or has an interest in such litigation, and the use of such records by the Department of Justice or HHS is deemed by HHS to be relevant and necessary to the litigation, provided, however, that in each case it has been determined that the disclosure is compatible with the purpose for which the records were collected.

(5) Disclosure to Contractor.

Information may be disclosed to a contractor performing or working on a contract for HHS and who have a need to have access to the information in the performance of their duties or activities for HHS.

(6) Disclosure for Administrative Claim, Complaint, and Appeal.

Information may be disclosed to an authorized appeal grievance examiner, formal complaints examiner, equal employment opportunity investigator, arbitrator or other person properly engaged in investigation or settlement of an administrative grievance, complaint, claim, or appeal filed by an employee, but only to the extent that the information is relevant and necessary to the proceeding. Agencies that may obtain information under this routine use include, but are not limited to, the Office of Personnel Management, Office of Special Counsel, Merit Systems Protection Board, Federal Labor Relations Authority, Equal Employment Opportunity Commission, and Office of Government Ethics.

(7) Disclosure in Connection with Litigation.

Information may be disclosed in connection with litigation or settlement discussions regarding claims by or against HHS, including public filing with a court, to the extent that disclosure of the information is relevant and necessary to the litigation or discussions and except where court orders are otherwise required under section (b)(11) of the Privacy Act of 1974, 5 U.S.C. 552a(b)(11).

(8) Disclosure in the Event of a Security Breach.

Information may be disclosed to appropriate federal agencies and Department contractors that have a need to know the information for the purpose of assisting the Department's efforts to respond to a suspected or confirmed breach of the security or confidentiality of information maintained in this system of records, provided the information disclosed is relevant and necessary for that assistance.

Disclosure to Consumer Reporting Agencies:

None.

Policies and Practices for Storing, Retrieving, Accessing, Retaining, and Disposing of Records in the System:

Storage:

Depending on the project, records may be stored on paper or other hard copy, computers, and networks.

Retrievability:

Depending on the project, records may be retrieved by name, SSN, or other personal identifier. In some cases, individuals may be assigned identifiers specific to a project or series of projects.

Safeguards:

All contractors or other record keepers are required to maintain appropriate administrative, technical, and physical safeguards to ensure the security and confidentiality of records. Records are secured in compliance with Federal requirements, including the Federal Information Security Management Act, HHS Security Program Policy, and any applicable requirements for the encryption of personal data.

Retention and Disposal:

Identifiers are removed once the analysis is complete.

System Manager and Address:

Executive Officer, Office of Planning, Research and Evaluation, Administration for Children and Families, Department of Health and Human Services, 370 L'Enfant Promenade SW., Washington, DC 20447.

Notification Procedures:

Individuals seeking to determine whether this system of records contains information about themselves should address written inquiries to the System Manager. The request should include the name, telephone number and/or email address, SSN, and address of the individual, and the request must be signed. The requester's letter must provide sufficient particulars to enable the System Manager to distinguish between records on subject individuals with the same name. Verification of identity as described in the Department's Privacy Act regulations may be required. 45 CFR 5b.5

Record Access Procedures:

Individuals seeking access to a record about themselves in this system of records should address written inquiries to the System Manager. The request should include the name, telephone number and/or email address, SSN, and address of the individual, and should be signed. The requester's letter must provide sufficient particulars to enable the System Manager to distinguish between records on subject individuals with the same name. Verification of identity as described in the Department's Privacy Act regulations may be required. 45 CFR 5b.5

Contesting Record Procedures:

Individuals seeking to amend a record about themselves in this system of records should address the request for amendment to the System Manager. The request should (1) include the name, telephone number and/or email address, SSN, and address of the individual, and should be signed; (2) identify the system of records that the individual believes includes his or her records or otherwise provide enough information to enable the identification of the individual's record; (3) identify the information that the individual believes in not accurate, relevant, timely, or complete; (4) indicate what corrective action is sought; and (5) include supporting justification or documentation for the requested amendment. Verification of identity as described in the Department's Privacy Act regulations may be required. 45 CFR 5b.5

Record Source Categories:

Records in this system may be obtained from the record subject; existing programs operated by federal and state agencies; third party information sources that may include a record subject's relatives, neighbors, friends, employers, and health care providers; and available commercial and governmental data sources.

Exemptions Claimed for the System:

None.

System Number: 09-80-0371

System Name:

OCC Federal Child Care Monthly Case Records, HHS/ACF/OCC

Security Classification:

Unclassified

System Location:

Office of Child Care, Administration for Children and Families (ACF), Department of Health and Human Services (HHS), 370 L'Enfant Promenade, SW., Washington, DC.

Categories of Individuals Covered by the System:

Family members from low-income working families receiving child care financial assistance through the Child Care and Development Fund whose information is reported by the states and territories on ACF Form 801.

Categories of Records in the System:

No names are collected. Social Security Numbers (SSN) are collected when voluntarily provided by families, or a unique state identifier provided by the states is included in lieu of SSNs. Other data fields include state and county, reason for receiving care, total monthly copayment, total monthly income, sources of income, date assistance began. For children, data fields include race/ethnicity, month/year of birth, type of child care, total monthly amount paid to child care provider, total hours of care provided.

Authority for Maintenance of the System:

42 U.S.C. 9858i, 9858j

Purpose(s):

When Congress created the Child Care and Development Fund (CCDF) in the Personal Responsibility and Work Opportunity Reconciliation Act, it also created the requirement that case-level data on families receiving CCDF services be collected on a regular basis. States and territories were charged with submitting specific information so that Congress would have some empirical basis for assessing the program. Non-identifiable records are also made available to researchers and the public.

Routine Uses of Records Maintained in the System, Including Categories of Users and the Purposes of Such Uses:

These routine uses specify circumstances, in addition to those provided by statute in the Privacy Act of 1974, 5 U.S.C. 552a(b), under which ACF may release information from this system of records without the consent of the data subject. Each proposed disclosure of information under these routine uses will be evaluated to ensure that the disclosure is legally permissible, including but not limited to ensuring that the purpose of the disclosure is compatible with the purpose for which the information was collected.

(1) Disclosure for Law Enforcement Purpose.

Information may be disclosed to the appropriate Federal, State, local, tribal, or foreign agency responsible for investigating, prosecuting, enforcing, or implementing a statute, rule, regulation, or order, if the information is relevant to a violation or potential violation of civil or criminal law or regulation within the jurisdiction of the receiving entity.

(2) Disclosure for Private Relief Legislation.

Information may be disclosed to the Office of Management and Budget at any stage in the legislative coordination and clearance process in connection with private relief legislation as set forth in OMB Circular No. A 19.

(3) Disclosure to Congressional Office.

Information may be disclosed to a congressional office from the record of an individual in response to a written inquiry from the congressional office made at the request of the individual.

(4) Disclosure to Department of Justice or in Proceedings.

Information may be disclosed to the Department of Justice, or in a proceeding before a court, adjudicative body, or other administrative body before which HHS is authorized to appear, when:

• HHS, or any component thereof; or

• Any employee of HHS in his or her official capacity; or

• Any employee of HHS in his or her individual capacity where the Department of Justice or HHS has agreed to represent the employee; or

• The United States, if HHS determines that litigation is likely to affect HHS or any of its components,is a party to litigation or has an interest in such litigation, and the use of such records by the Department of Justice or HHS is deemed by HHS to be relevant and necessary to the litigation provided, however, that in each case it has been determined that the disclosure is compatible with the purpose for which the records were collected.

(5) Disclosure to the National Archives.

Information may be disclosed to the National Archives and Records Administration in records management inspections.

(6) Disclosure to Contractors, Grantees, and Others.

Information may be disclosed to contractors, grantees, consultants, or volunteers performing or working on a contract, service, grant, cooperative agreement, job, or other activity for HHS and who have a need to have access to the information in the performance of their duties or activities for HHS.

(7) Disclosure for Administrative Claim, Complaint, and Appeal.

Information may be disclosed to an authorized appeal grievance examiner, formal complaints examiner, equal employment opportunity investigator, arbitrator or other person properly engaged in investigation or settlement of an administrative grievance, complaint, claim, or appeal filed by an employee, but only to the extent that the information is relevant and necessary to the proceeding. Agencies that may obtain information under this routine use include, but are not limited to, the Office of Personnel Management, Office of Special Counsel, Merit Systems Protection Board, Federal Labor Relations Authority, Equal Employment Opportunity Commission, and Office of Government Ethics.

(8) Disclosure to Office of Personnel Management.

Information may be disclosed to the Office of Personnel Management pursuant to that agency's responsibility for evaluation and oversight of Federal personnel management.

(9) Disclosure in Connection with Litigation.

Information may be disclosed in connection with litigation or settlement discussions regarding claims by or against HHS, including public filing with a court, to the extent that disclosure of the information is relevant and necessary to the litigation or discussions and except where court orders are otherwise required under section (b)(11) of the Privacy Act of 1974, 5 U.S.C. 552a(b)(11).

(10) Disclosure in the Event of a Security Breach.

Information may be disclosed to appropriate federal agencies and Department contractors that have a need to know the information for the purpose of assisting the Department's efforts to respond to a suspected or confirmed breach of the security or confidentiality of information maintained in this system of records, provided the information disclosed is relevant and necessary for that assistance.

(11) Disclosure to Consumer Reporting Agencies: None.

Policies and Practices for Storing, Retrieving, Accessing, Retaining, and Disposing of Records in the System:

Storage:

Current records are stored on a computer network/database. Older records are stored on tapes and disks.

Retrievability:

Records may be retrieved by state-defined unique identifier (which may be an SSN).

Safeguards:

Safeguards conform to the HHS Information Security Program, http://www.hhs.gov/ocio/securityprivacy/index.html.

Retention and Disposal:

Records are maintained indefinitely.

System Manager and Address:

Associate Director, Office of Child Care, Administration for Children and Families, Department of Health and Human Services, 370 L'Enfant Promenade SW., Washington, DC 20447.

Notification Procedures:

Individuals seeking to determine whether this system of records contains information about themselves should address written inquiries to the System Manager. The request should include the name, telephone number and/or email address, SSN, and address of the individual, and the request must be signed. The requester's letter must provide sufficient particulars to enable the System Manager to distinguish between records on subject individuals with the same name. Verification of identity as described in HHS's Privacy Act regulations may be required. 45 CFR 5b.5

Record Access Procedures:

Individuals seeking access to a record about themselves in this system of records should address written inquiries to the System Manager. The request should include the name, telephone number and/or email address, SSN, and address of the individual, and should be signed. The requester's letter must provide sufficient particulars to enable the System Manager to distinguish between records on subject individuals with the same name. Verification of identity as described in HHS's Privacy Act regulations may be required. 45 CFR 5b.5

Contesting Record Procedures:

Individuals seeking to amend a record about themselves in this system of records should address the request for amendment to the System Manager. The request should (1) include the name, telephone number and/or email address, SSN, and address of the individual, and should be signed; (2) identify the system of records that the individual believes includes his or her records or otherwise provide enough information to enable the identification of the individual's record; (3) identify the information that the individual believes in not accurate, relevant, timely, or complete; (4) indicate what corrective action is sought; and (5) include supporting justification or documentation for the requested amendment. Verification of identity as described in HHS's Privacy Act regulations may be required. 45 CFR 5b.5

Record Source Categories:

States and territories receiving funds from the Child Care and Development Fund.

Exemptions Claimed for the System:

None.

System Number: 09-80-0373

System Name:

OFA Tribal Temporary Assistance for Needy Families (Tribal TANF) Data System, HHS/ACF/OFA

Security Classification:

None.

System Location:

TANFB.HQ, Office of Family Assistance (OFA), Administration for Children and Families (ACF), Department of Health and Human Services (HHS), 370 L'Enfant Promenade SW., Washington, DC. A list of contractor sites where system records are currently located is available upon request to the system manager.

Categories of Individuals Covered by the System:

Members of families (as defined at 45 CFR 286.5) who received assistance under the TANF program in any month.

Categories of Records in the System:

There are three distinct groups of data in the system: Family-level data; adult-level or minor-child-head-of-household data; and child data.

(1) Family level data may include the following items of information: Tribal TANF Database code, report year and month; stratum code; case identification number; Zip code; funding stream; disposition status; new applicant status; number of family members; type of family for work participation; receipt of subsidized housing; receipt of medical assistance; receipt of food stamp assistance; amount of food stamp assistance; receipt of subsidized child care; amount of subsidized child care; amount of child support; amount of family's cash resources; cash, or cash equivalent, amount of assistance and number of months of that assistance; TANF child care (amount, number of children covered, and number of months of assistance); transportation assistance (amount and number of months of assistance); transitional services (amount and number of months of assistance); other assistance (amount and number of months of assistance); amount of reductions in assistance; reason for assistance reductions (sanctions, recoupment of prior overpayment, and other); waiver evaluation experimental and control group status; exemption status from the federal time-limit provisions; and new child-only-family status.

(2) Adult-level or minor child-head-of-household data may include: family affiliation; non-custodial parent indicator; date of birth; Social Security Number (SSN); race and ethnicity; gender; receipt of disability benefits; marital status; relationship to head of household; parent-with-minor-child-in-the-family status; needs of a pregnant woman; education level; citizenship; cooperation with child support; number of months countable towards Federal time-limit; number of countable months remaining under Tribe's negotiated time-limit; exemption status of the reporting month from the Tribe's negotiated time-limit; employment status; work participation status; unsubsidized employment hours; subsidized private and public sector employment hours; work experience hours; on-the-job training hours; job search and job readiness assistance hours; community service program hours; vocational educational training hours; hours of job skills training directly related to employment; hours of education directly related to employment for individuals with no high school diploma or certificate of high school equivalency; hours of satisfactory school attendance for individuals with no high school diploma or certificate of high school equivalency; hours of providing child care services to an individual who is participating in a community service program; hours of additional work activities permitted under a Waiver demonstration; hours of other work activities; required hours of work under a Waiver demonstration; amount of earned income; and amount of unearned income (earned income tax credit, Social Security benefit, Supplemental Security Income (SSI), worker's compensation, and other unearned income).

(3) Child data (i.e., data pertaining to every child in a recipient TANF family) may include: family affiliation; date of birth; SSN; race and ethnicity; gender; receipt of disability benefits; relationship to head of household; parent-with-minor-child-in-the-family status; education level; citizenship; amount of unearned income (SSI and other).

Authority for Maintenance of the System:

42 U.S.C. 612 (Section 412 of the Social Security Act). Tribal TANF data collection and reporting regulations are found in 45 CFR part 286.

Purpose:

The purposes of the Tribal TANF Data System are: (1) To determine whether Tribes are meeting certain requirements negotiated under the Act, including negotiated work and time-limit requirements; (2) to compile information used to report to Congress on the Tribal TANF program. The TANF data are reported by the Tribes for each calendar quarter. Some records in the system may be provided to Office of Child Support Enforcement for matching with records of individual employment information contained in the National Directory of New Hires. Match results are transmitted back in a form that is not individually identifiable.

Routine Uses of Records Maintained in the System, Including Categories of Users and the Purpose of Such Uses:

These routine uses specify circumstances, in addition to those provided by statute in the Privacy Act of 1974, 5 U.S.C. 552a(b), under which ACF may release information from this system of records without the consent of the data subject. Each proposed disclosure of information under these routine uses will be evaluated to ensure that the disclosure is legally permissible, including but not limited to ensuring that the purpose of the disclosure is compatible with the purpose for which the information was collected.

(1) Disclosure of Identifiable Data for Research.

Information may be disclosed in response to specific requests from public or private entities, where the requester's proposed use of data from the Tribal TANF Data System is found compatible with the purposes for which this data was collected, to supply untabulated data, which may include personal identifiers for individuals whose information is included in the data. No data that may include personal identifiers will be disclosed until the requester has agreed in writing not to use such data to identify any individuals and has provided advance adequate written assurance that the records will be used solely as statistical research or reporting records.

(2) Disclosure for Law Enforcement Purpose.

Information may be disclosed to the appropriate Federal, State, local, tribal, or foreign agency responsible for investigating, prosecuting, enforcing, or implementing a statute, rule, regulation, or order, if the information is relevant to a violation or potential violation of civil or criminal law or regulation within the jurisdiction of the receiving entity.

(3) Disclosure Incident to Requesting Information.

Information may be disclosed (to the extent necessary to identify the individual, inform the source of the purpose of the request, and to identify the type of information requested), to any source from which additional information is requested when necessary to obtain information relevant to an agency decision concerning retention of an employee or other personnel action (other than hiring), retention of a security clearance, the letting of a contract, or the issuance or retention of a grant, or other benefit.

(4) Disclosure for Employee Retention, Security Clearance, Contract, or Other Benefit.

Disclosure may be made to a Federal, State, local, foreign, or tribal or other public authority of the fact that this system of records contains information relevant to the retention of an employee, the retention of a security clearance, the letting of a contract, or the issuance or retention of a license, grant, or other benefit. The other agency or licensing organization may then make a request supported by the written consent of the individual for the entire record if it so chooses. No disclosure will be made unless the information has been determined to be sufficiently reliable to support a referral to another office within HHS or to another Federal agency for criminal, civil, administrative, personnel, or regulatory action.

(5) Disclosure for Private Relief Legislation.

Information may be disclosed to the Office of Management and Budget at any stage in the legislative coordination and clearance process in connection with private relief legislation as set forth in OMB Circular No. A 19.

(6) Disclosure to Congressional Office.

Information may be disclosed to a congressional office from the record of an individual in response to a written inquiry from the congressional office made at the request of the individual.

(7) Disclosure to Department of Justice or in Proceedings.

Information may be disclosed to the Department of Justice, or in a proceeding before a court, adjudicative body, or other administrative body before which HHS is authorized to appear, when:

• HHS, or any component thereof; or

• Any employee of HHS in his or her official capacity; or

• Any employee of HHS in his or her individual capacity where the Department of Justice or HHS has agreed to represent the employee; or

• The United States,

if HHS determines that litigation is likely to affect HHS or any of its components,is a party to litigation or has an interest in such litigation, and the use of such records by the Department of Justice or HHS is deemed by HHS to be relevant and necessary to the litigation provided, however, that in each case it has been determined that the disclosure is compatible with the purpose for which the records were collected.

(8) Disclosure to the National Archives.

Information may be disclosed to the National Archives and Records Administration in records management inspections.

(9) Disclosure to Contractors, Grantees, and Others.

Information may be disclosed to contractors, grantees, consultants, or volunteers performing or working on a contract, service, grant, cooperative agreement, job, or other activity for HHS and who have a need to have access to the information in the performance of their duties or activities for HHS.

(10) Disclosure for Administrative Claim, Complaint, and Appeal.

Information may be disclosed to an authorized appeal grievance examiner, formal complaints examiner, equal employment opportunity investigator, arbitrator or other person properly engaged in investigation or settlement of an administrative grievance, complaint, claim, or appeal filed by an employee, but only to the extent that the information is relevant and necessary to the proceeding. Agencies that may obtain information under this routine use include, but are not limited to, the Office of Personnel Management, Office of Special Counsel, Merit Systems Protection Board, Federal Labor Relations Authority, Equal Employment Opportunity Commission, and Office of Government Ethics.

(11) Disclosure to Office of Personnel Management.

Information may be disclosed to the Office of Personnel Management pursuant to that agency's responsibility for evaluation and oversight of Federal personnel management.

(12) Disclosure in Connection with Litigation.

Information may be disclosed in connection with litigation or settlement discussions regarding claims by or against HHS, including public filing with a court, to the extent that disclosure of the information is relevant and necessary to the litigation or discussions and except where court orders are otherwise required under section (b)(11) of the Privacy Act of 1974, 5 U.S.C. 552a(b)(11).

(13) Disclosure in the Event of a Security Breach.

Information may be disclosed to appropriate federal agencies and Department contractors that have a need to know the information for the purpose of assisting the Department's efforts to respond to a suspected or confirmed breach of the security or confidentiality of information maintained in this system of records, provided the information disclosed is relevant and necessary for that assistance.

(14) Disclosure to Consumer Reporting Agencies.

None.

Note: Data produced by matching Tribe-provided data with data from the Office of Child Support Enforcement's National Directory of New Hires will only be disclosed in accordance applicable routine use disclosures set forth in the Office of Child Support Enforcement's systems of records for OCSE Debtor File and OCSE National Directory of New Hires.

Policies and Practices for Storing, Retrieving, Accessing, Retaining, and Disposing of Records in the System:

Storage:

Records may be transmitted electronically and stored on computer tapes, disks, and networks.

Retrievability:

Records may be retrieved by state-defined unique identifier (which may be an SSN), or assigned case number.

Safeguards:

Safeguards conform to the HHS Information Security Program, http://www.hhs.gov/ocio/securityprivacy/index.html.

Retention and Disposal:

Data is retained indefinitely.

System Manager and Address:

Director, TANFB.HQ, Administration for Children and Families, Department of Health and Human Services, 370 L'Enfant Promenade SW., Washington, DC 20447.

Notification Procedures:

Individuals seeking to determine whether this system of records contains information about themselves should address written inquiries to the System Manager. The request should include the name, telephone number and/or email address, SSN, and address of the individual, and the request must be signed. The requester's letter must provide sufficient particulars to enable the System Manager to distinguish between records on subject individuals with the same name. Verification of identity as described in HHS's Privacy Act regulations may be required. 45 CFR 5b.5

Record Access Procedures:

Individuals seeking access to a record about themselves in this system of records should address written inquiries to the System Manager. The request should include the name, telephone number and/or email address, SSN, and address of the individual, and should be signed. The requester's letter must provide sufficient particulars to enable the System Manager to distinguish between records on subject individuals with the same name. Verification of identity as described in HHS's Privacy Act regulations may be required. 45 CFR 5b.5

Contesting Record Procedures:

Individuals seeking to amend a record about themselves in this system of records should address the request for amendment to the System Manager. The request should (1) include the name, telephone number and/or email address, SSN, and address of the individual, and should be signed; (2) identify the system of records that the individual believes includes his or her records or otherwise provide enough information to enable the identification of the individual's record; (3) identify the information that the individual believes in not accurate, relevant, timely, or complete; (4) indicate what corrective action is sought; and (5) include supporting justification or documentation for the requested amendment. Verification of identity as described in HHS's Privacy Act regulations may be required. 45 CFR 5b.5

Record Source Categories:

All information is obtained from participating Tribes.

System Exempted From Certain Provisions of the Act:

No.

C. Revised SORNs are published for five existing systems of records, as follows:

System Number: 09-80-0375 (formerly 09-90-0151)

System Name:

OFA Temporary Assistance for Needy Families (TANF) Data System, HHS/ACF/OFA

Security Classification:

Unclassified

System Location:

(1) Office of Information Systems, Office of Administration, Administration for Children and Families (ACF), Department of Health and Human Services (HHS), 370 L'Enfant Promenade SW., Washington, DC; and (2) Office of Family Assistance (OFA), ACF, HHS, 370 L'Enfant Promenade SW., Washington, DC. A list of contractor sites where system records are currently located is available upon request to the system manager.

Categories of Individuals Covered by the System:

(1) Members of families (as defined at 45 CFR 265.2) who received assistance under the TANF program in any month. For data collection and reporting purposes only, family means:

• All individuals receiving assistance as part of a family under the State's TANF or separate State program (including noncustodial parents, where required under 45 CFR 265.3(f)); and

• The following additional persons living in the household, if not otherwise included:

(a) Parent(s) or caretaker relative(s) of any minor child receiving assistance;

(b) Minor siblings of any child receiving assistance; and

(c) Any person whose income or resources would be counted in determining the family's eligibility for or amount of assistance.

(2) Members of families no longer receiving assistance under the TANF program.

Categories of Records in the System:

There are three distinct groups of data in the TDS (TANF Data Reporting System): Family-level data; adult-level or minor-child-head-of-household data; and child data. States must use for all families, adult-level or minor child-head-of-household, and child data reported each month and must use for all months in the fiscal year: State FIPS Code; County FIPS Code; Tribal code; Reporting Month; Stratum.

(1) Family level data maintained in the TDS may include the following items of information on every family that received assistance during one or more months: Case number—TANF; Zip code; funding stream; disposition; new applicant; number of family members; type of family for work participation; receives subsidized housing; receives medical assistance; receives food stamp; amount of food stamp assistance; receives subsidized child care; amount of subsidized child care; amount of child support; amount of family's cash resources; cash and cash equivalents (amount of assistance and number of months); TANF child care (amount, number of children covered, and number of months); transportation (amount and number of months); transitional services (amount and number of months); other (amount and number of months); reason for and amount of reductions in assistance (sanctions, recoupment of prior overpayment); waiver evaluation experimental and control group; is the TANF Family exempt from the Federal time-limit provisions; is the TANF family a new child-only family.

(2) Adult-level or minor child-head-of-household data maintained in the TDS may include: Family affiliation; noncustodial parent indicator; date of birth; Social Security Number (SSN); race/ethnicity; gender; receives disability benefits; marital status; relationship to head of household; parent-with-minor-child-in-the-family; needs of a pregnant woman; educational level; citizenship/alienage; cooperation with child support; number of months countable towards Federal time-limit; number of countable months remaining under State's (Tribe's) time-limit; Is current month exempt from the State's (Tribe's) time-limit; employment status; work-eligible individual indicator; work participation status; unsubsidized employment; subsidized private-sector employment hours; subsidized public-sector employment; work experience; on-the-job training; job search and job readiness assistance; community service program; vocational educational training; job skills training directly related to employment; education directly related to employment for individuals with no high school diploma or certificate of high school equivalency; satisfactory school attendance for individuals with no high school diploma or certificate of high school equivalency; providing child care services to an individual who is participating in a community service program; other work activities; number of deemed core hours for overall rate; number of deemed core hours for the two-parent rate; amount of earned income; amount of unearned income (earned income tax credit (EITC), Social Security, Supplemental Security Income (SSI), Worker's Compensation, Other Unearned Income)

(3) Child data (i.e., data pertaining to every child in a recipient TANF family) may include: Family affiliation; date of birth; SSN; race and ethnicity; gender; receives disability benefits; relationship to head of household; parent-with-minor-child-in-the-family status; educational level; citizenship/alienage; amount of unearned income (SSI and other unearned income).

Authority for Maintenance of the System:

42 U.S.C. 601-619 (Title IV-A of the Social Security Act); 45 CFR part 265 (TANF data collection and reporting regulations); 42 U.S.C. 603(a)(4), 613(d) (Sections 403 and 413 of the Social Security Act); 45 CFR part 270 (collection of information for performance measures).

Purpose(s):

The purposes of the TANF Data Reporting System are: (1) To determine whether States are meeting certain requirements prescribed by the Act, including prescribed work and time-limit requirements; (2) to compile information used to report to Congress on the TANF program; and, (3) to compute State scores on work measures and rank States on their performance in assisting TANF recipients to obtain and retain employment. The monthly TANF data are reported by the individual States for each (Federal) fiscal quarter. (The term State is used in this notice to refer to the 50 States, the District of Columbia, and the jurisdictions of Puerto Rico, the U.S. Virgin Islands, and Guam). The State data are pooled to create a national database for each quarter. Some records in the system may be provided to Office of Child Support Enforcement for matching with records of individual employment information contained in the National Directory of New Hires. Match results are transmitted back to OFA in a form that is not individually identifiable.

Routine Uses of Records Maintained in the System, Including Categories of Users and the Purpose of Such Uses:

These routine uses specify circumstances, in addition to those provided by statute in the Privacy Act of 1974, 5 U.S.C. 552a(b), under which ACF may release information from this system of records without the consent of the data subject. Each proposed disclosure of information under these routine uses will be evaluated to ensure that the disclosure is legally permissible, including but not limited to ensuring that the purpose of the disclosure is compatible with the purpose for which the information was collected.

(1) Disclosure of Identifiable Data for Research.

Information from this system of records may be disclosed in response to specific requests from public or private entities, where the requester's proposed use of data from the TANF Data System is found compatible with the purposes for which this data was collected, supply untabulated data, which may include personal identifiers for individuals whose information is included in the data. No data that may include personal identifiers will be disclosed until the requester has agreed in writing not to use such data to identify any individuals and has provided advance adequate written assurance that the records will be used solely as statistical research or reporting records.

(2) Disclosure for Law Enforcement Purpose.

Information may be disclosed to the appropriate Federal, State, local, tribal, or foreign agency responsible for investigating, prosecuting, enforcing, or implementing a statute, rule, regulation, or order, if the information is relevant to a violation or potential violation of civil or criminal law or regulation within the jurisdiction of the receiving entity.

(3) Disclosure for Private Relief Legislation.

Information may be disclosed to the Office of Management and Budget at any stage in the legislative coordination and clearance process in connection with private relief legislation as set forth in OMB Circular No. A 19.

(4) Disclosure to Congressional Office.

Information may be disclosed to a congressional office from the record of an individual in response to a written inquiry from the congressional office made at the request of the individual.

(5) Disclosure to Department of Justice or in Proceedings.

Information may be disclosed to the Department of Justice, or in a proceeding before a court, adjudicative body, or other administrative body before which HHS is authorized to appear, when: HHS, or any component thereof; or

• Any employee of HHS in his or her official capacity; or

• Any employee of HHS in his or her individual capacity where the Department of Justice or HHS has agreed to represent the employee; or

• The United States,

if HHS determines that litigation is likely to affect HHS or any of its components, is a party to litigation or has an interest in such litigation, and the use of such records by the Department of Justice or HHS is deemed by HHS to be relevant and necessary to the litigation provided, however, that in each case it has been determined that the disclosure is compatible with the purpose for which the records were collected.

(6) Disclosure to the National Archives.

Information may be disclosed to the National Archives and Records Administration in records management inspections.

(7) Disclosure to Contractors, Grantees, and Others.

Information may be disclosed to contractors, grantees, consultants, or volunteers performing or working on a contract, service, grant, cooperative agreement, job, or other activity for HHS and who have a need to have access to the information in the performance of their duties or activities for HHS.

(8) Disclosure for Administrative Claim, Complaint, and Appeal.

Information from this system of records may be disclosed to an authorized appeal grievance examiner, formal complaints examiner, equal employment opportunity investigator, arbitrator or other person properly engaged in investigation or settlement of an administrative grievance, complaint, claim, or appeal filed by an employee, but only to the extent that the information is relevant and necessary to the proceeding. Agencies that may obtain information under this routine use include, but are not limited to, the Office of Personnel Management, Office of Special Counsel, Merit Systems Protection Board, Federal Labor Relations Authority, Equal Employment Opportunity Commission, and Office of Government Ethics.

(9) Disclosure to Office of Personnel Management.

Information from this system of records may be disclosed to the Office of Personnel Management pursuant to that agency's responsibility for evaluation and oversight of Federal personnel management.

(10) Disclosure in Connection with Litigation.

Information from this system of records may be disclosed in connection with litigation or settlement discussions regarding claims by or against HHS, including public filing with a court, to the extent that disclosure of the information is relevant and necessary to the litigation or discussions and except where court orders are otherwise required under section (b)(11) of the Privacy Act of 1974, 5 U.S.C. 552a(b)(11).

(11) Disclosure in the Event of a Security Breach.

Information may be disclosed to appropriate federal agencies and Department contractors that have a need to know the information for the purpose of assisting the Department's efforts to respond to a suspected or confirmed breach of the security or confidentiality of information maintained in this system of records, provided the information disclosed is relevant and necessary for that assistance.

(12) Disclosure to Consumer Reporting Agencies. None.

Note: Data produced by matching State provided data with data from the Office of Child Support Enforcement's National Directory of New Hires will only be disclosed in accordance with applicable routine use disclosures set forth in the Office of Child Support Enforcement's systems of records for OCSE Debtor File and OCSE National Directory of New Hires.

Policies and Practices for Storing, Retrieving, Accessing, Retaining, and Disposing of Records in the System:

Storage:

Records may be transmitted electronically and stored on computer tapes, disks, and networks.

Retrievability:

Records may be retrieved by name, state-defined unique identifier (which may be an SSN), or assigned case or family identification numbers.

Safeguards:

Safeguards conform to the HHS Information Security Program, http://www.hhs.gov/ocio/securityprivacy/index.html.

Retention and Disposal:

The data transmitted by a State for a fiscal quarter are backed up after the initial processing of the data. The backed-up version of the data is kept only for a period of 30 days. The data transmitted by the States for a fiscal quarter, after processing and acceptance, are pooled to create a national database for the quarter. The national database is stored for up to 24 months after the end of the fiscal year. Afterwards, the database is copied to a compact disc, and the original data are erased. The data on the compact disc is securely maintained by ACF for up to 20 years in order to facilitate research on caseload trends, changes in the characteristics of TANF recipients, or other pertinent research. The eventual disposal of the data will be by means of physical destruction of the CD's containing the data. The Office of Information Systems of the Office of Administration and OFA, ACF, are responsible for the retention and disposal of the data system. The SSNs obtained for the work performance measures for a performance year, although initially kept in an electronic file, are erased after calculation of the work measures for the performance year. The erasing of this SSN data file is done within two years after the performance measures are actually published for a performance year (which precedes the year in which they are calculated). Aggregate data files based on information provided for the work measures are also erased at the same time.

System Managers and Addresses:

(1) Director, Division of Applications Development Services, Office of Information Services, Office of Administration, Administration for Children and Families, Department of Health and Human Services, 370 L'Enfant Promenade SW., Washington, DC 20447.

(2) Director, Division of Data Collection and Analysis, TANF Bureau, Office of Family Assistance, Administration for Children and Families, Department of Health and Human Services, 370 L'Enfant Promenade SW., Washington, DC 20447.

Notification procedures:

Individuals seeking to determine whether this system of records contains information about themselves should address written inquiries to the System Manager. The request should include the name, telephone number and/or email address, SSN, and address of the individual, and the request must be signed. The requester's letter must provide sufficient particulars to enable the System Manager to distinguish between records on subject individuals with the same name. Verification of identity as described in HHS's Privacy Act regulations may be required. 45 CFR 5b.5

Record Access Procedures:

Individuals seeking access to a record about themselves in this system of records should address written inquiries to the System Manager. The request should include the name, telephone number and/or email address, SSN, and address of the individual, and should be signed. The requester's letter must provide sufficient particulars to enable the System Manager to distinguish between records on subject individuals with the same name. Verification of identity as described in HHS's Privacy Act regulations may be required. 45 CFR 5b.5

Contesting Record Procedures:

Individuals seeking to amend a record about themselves in this system of records should address the request for amendment to the System Manager. The request should (1) include the name, telephone number and/or email address, SSN, and address of the individual, and should be signed; (2) identify the system of records that the individual believes includes his or her records or otherwise provide enough information to enable the identification of the individual's record; (3) identify the information that the individual believes in not accurate, relevant, timely, or complete; (4) indicate what corrective action is sought; and (5) include supporting justification or documentation for the requested amendment. Verification of identity as described in HHS's Privacy Act regulations may be required. 45 CFR 5b.5

Record Source Categories:

All information is obtained from the states.

System Exempted From Certain Provisions of the Act:

None.

System Number: 09-80-0381

System Name:

OCSE National Directory of New Hires, HHS/ACF/OCSE

Security Classification:

Unclassified

System Location:

National Computer Center, Social Security Administration, Baltimore, Maryland; OCSE Data Facility, Manassas, Virginia.

Categories of Individuals Covered by the System:

(1) Individuals who are newly hired “employees” within the meaning of chapter 24 of the Internal Revenue Code of 1986, 26 U.S.C. 3401, whose employers have furnished specified information to a State Directory of New Hires which, in turn, has furnished such information to the National Directory of New Hires pursuant to 42 U.S.C. 653a(g)(2)(A);

(2) Individuals who are federal government employees whose employers have furnished specified information to the National Directory of New Hires pursuant to 42 U.S.C. 653(n) and 653a(b)(1)(c). This category does not include individuals who are employees of a department, agency, or instrumentality performing intelligence or counterintelligence functions, if the head of such department, agency, or instrumentality has determined that filing such a report could endanger the safety of the employee or compromise an ongoing investigation or intelligence mission; and

(3) Individuals to whom unemployment compensation or wages have been paid and about whom the State Directory of New Hires has furnished such information to the National Directory of New Hires pursuant to 42 U.S.C. 653(e)(3) and 653a(g)(2)(B).

(4) Individuals whose information is contained within input records furnished by an authorized state or federal agency for matching to obtain employment, wage, or unemployment compensation information pertaining to those individuals for purposes of establishing or verifying eligibility of applicants for, or beneficiaries of, federal or state benefit programs, such as those funded under 42 U.S.C. 601 through 619 (Title IV-A of the Social Security Act, Temporary Assistance for Needy Families). Other individuals whose information is contained within input records furnished for authorized matching are listed in the routine uses to this system of records notice.

(5) Individuals involved in child support cases whose information is collected and disseminated to and from employers (and other payers of income) and state IV-D child support enforcement agencies, courts, and other authorized entities for enforcement of child support orders by withholding of income.

Categories of Records in the System:

(1) Records pertaining to newly hired employees furnished by a State Directory of New Hires pursuant to 42 U.S.C. 653a(g)(2)(A). Records in the system are the name, address, and Social Security Number (SSN) or Taxpayer Identification Number (TIN) and date of hire of the employee, the name, address and federal identification number of the employer of such employee and, at the option of the state, the date of birth or state of hire of the employee.

(2) Records pertaining to newly hired employees furnished by a federal department, agency or instrumentality pursuant to 42 U.S.C. 653a(b)(1)(C), including the name, address, SSN (or TIN) and date of hire of the employee and the name, address and employer identification number of the employer. A Department of Defense status code, if available, is also included in the records.

(3) Records furnished by a State Directory of New Hires pertaining to wages and unemployment compensation paid to individuals pursuant to 42 U.S.C. 653a(g)(2)(B).

(4) Records furnished by a federal department, agency, or instrumentality pertaining to wages paid to individuals pursuant to 42 U.S.C. 653(n) and wage and unemployment compensation records obtained pursuant to an agreement with the Department of Labor pursuant to 42 U.S.C. 653(e)(3).

(5) Input records furnished by a state or federal agency or other entity for authorized matching with the NDNH.

(6) Records collected and disseminated to and from employers (and other income sources) and state IV-D child support enforcement agencies and other authorized entities pertaining to income withholding, including additional information, such as termination date, final payment date and amount, contact information, children's names, lump sum income information, order information, past-due support information, amounts to withhold, and instructions for withholding.

Authority for Maintenance of the System:

42 U.S.C. 653(i), 652(a)(9) and 653(a)(1).

Purpose(s):

The Office of Child Support Enforcement (OCSE) uses the NDNH primarily to assist states administering programs that improve states' abilities to locate parents, establish paternity, and collect child support. The NDNH is also used to support other programs as specified in sections 453 and 463 of the Social Security Act (42 U.S.C. 653, 663): Temporary Assistance for Needy Families; child and family services; foster care and adoption assistance; establishing or verifying eligibility of applicants for, or beneficiaries of benefit programs; recouping payments or delinquent debts under benefit programs; and for certain research purposes likely to contribute to achieving the purposes of the Temporary Assistance for Needy Families (TANF) or the federal/state child support program.

Routine Uses of Records Maintained in the System, Including Categories of Users and the Purposes of Such Uses:

These routine uses specify circumstances under which ACF may disclose information from this system of records without the consent of the data subject. Each proposed disclosure of information under these routine uses will be evaluated to ensure that the disclosure is legally permissible, including but not limited to ensuring that the purpose of the disclosure is compatible with the purpose for which the information was collected. Any information defined as “return” or “return information” under 26 U.S.C. 6103 (Internal Revenue Code) will not be disclosed unless authorized by a statute, the Internal Revenue Service (IRS) or IRS regulations.

(1) Disclosure for Child Support Purposes.

Pursuant to 42 U.S.C. 653(a)(2), 653(b)(1)(A) and 653(c), information about the location of an individual or information that would facilitate the discovery of the location of an individual or identifying information about the individual may be disclosed, upon request filed in accordance with law, to an “authorized person” for the purpose of establishing parentage or establishing, setting the amount of, modifying or enforcing child support obligations. Other information that may be disclosed is information about an individual's wages (or other income) from, and benefits of, employment, and information on the type, status, location, and amount of any assets of, or debts owed by or to, the individual. An “authorized person” is defined under 42 U.S.C. 653(c) as follows: (1) Any agent or attorney of a state who has a duty or authority to seek or recover any amounts owed as child and spousal support or to seek to enforce orders providing child custody or visitation rights; (2) a court which has authority to issue an order against a noncustodial parent for support of a child, or to issue an order against a resident parent for child custody or visitation rights, or any agent of such court; (3) the resident parent, legal guardian, attorney, or agent of a child that is not receiving assistance under a state program funded under title IV-A of the Social Security Act (Temporary Assistance for Needy Families); and (4) a state agency that is administering a program operated under title IV-B (child and family services programs) or IV-E (Foster Care and Adoption Assistance programs) of the Social Security Act.

(2) Disclosure for Purposes Related to the Unlawful Taking or Restraint of a Child or Child Custody or Visitation.

Pursuant to 42 U.S.C. 653(b)(1), upon request of an “authorized person,” as defined in 42 U.S.C. 663(d)(2), information as to the most recent address and place of employment of a parent or child may be disclosed for the purpose of enforcing any state or federal law with respect to the unlawful taking or restraint of a child or making or enforcing a child custody or visitation determination.

(3) Disclosure to Department of State under International Child Abduction Remedies Act.

Pursuant to 42 U.S.C. 653(b)(1) and 663(e), the most recent address and place of employment of a parent or child may be disclosed upon request to the Department of State, in its capacity as the Central Authority designated in accordance with section 7 of the International Child Abduction Remedies Act, 42 U.S.C. 11601 et seq., for the purpose of locating the parent or child on behalf of an applicant.

(4) Disclosure to a Foreign Reciprocating Country for Child Support Purposes.

Pursuant to 42 U.S.C. 653(a)(2) and 659a(c)(2), information on the state of residence of an individual sought for support enforcement purposes in cases involving residents of the United States and residents of foreign countries that are the subject of a declaration may be disclosed to a foreign reciprocating country.

(5) Disclosure to the Treasury for Tax Administration Purposes.

Pursuant to 42 U.S.C. 653(i)(3), information may be disclosed to the Secretary of the Treasury for purposes of administering 26 U.S.C. 32 (earned income tax credit), administering 26 U.S.C. 3507 (advance payment of earned income tax credit) and verifying a claim with respect to employment in a tax return.

(6) Disclosure to the Social Security Administration for Verification.

Pursuant to 42 U.S.C. 653(j)(1), the names, SSNs, and birth dates of individuals about whom information is maintained may be disclosed to the Social Security Administration to the extent necessary for verification of the information by the Social Security Administration.

(7) Disclosure for Locating an Individual for Paternity Establishment or in Connection with a Support Order.

Pursuant to 42 U.S.C. 653(j)(2), the results of a comparison between records in this system and the Federal Case Registry of Child Support Orders may be disclosed to the state IV-D child support enforcement agency responsible for the case for the purpose of locating an individual in a paternity establishment case or a case involving the establishment, modification or enforcement of a support order.

(8) Disclosure to State Agencies Operating Specified Programs.

Pursuant to 42 U.S.C. 653(j)(3), information may be disclosed to a state to the extent and with the frequency that the Secretary determines to be effective in assisting the state to carry out its responsibilities under child support programs operated under 42 U.S.C. 651 through 669b (Title IV-D of the Social Security Act, Child Support and Establishment of Paternity), child and family services programs operated under 42 U.S.C. 621 through 629m (Title IV-B of the Social Security Act), Foster Care and Adoption Assistance programs operated under 42 U.S.C. 670 through 679c (Title IV-E of the Social Security Act) and assistance programs funded under 42 U.S.C. 601 through 619 (Title IV-A of the Social Security Act, Temporary Assistance for Needy Families).

(9) Disclosure to the Commissioner of Social Security.

Pursuant to 42 U.S.C. 653(j)(4), information may be disclosed to the Commissioner of Social Security for the purpose of verifying eligibility for Social Security Administration programs and administering such programs.

(10) Disclosure for Authorized Research Purposes.

Pursuant to 42 U.S.C. 653(j)(5), data in the NDNH, including information reported by employers pursuant to 42 U.S.C. 653a(b), may be disclosed, without personal identifiers, for research purposes found by the Secretary to be likely to contribute to achieving the purposes of 42 U.S.C. 651 through 669b (Title IV-D of the Social Security Act, Child Support and Establishment of Paternity) and 42 U.S.C. 601 through 619 (Title IV-A of the Social Security Act, Temporary Assistance for Needy Families).

(11) Disclosure to Secretary of Education for Collection of Defaulted Student Loans

Pursuant to 42 U.S.C. 653(j)(6), the results of a comparison of information in this system with information in the custody of the Secretary of Education may be disclosed to the Secretary of Education for the purpose of collection of debts owed on defaulted student loans, or refunds on overpayments of grants, made under title IV of the Higher Education Act of 1965 (20 U.S.C. 1070 et seq. and 42 U.S.C. 2751 et seq.) and, after removal of personal identifiers, for the purpose of conducting analyses of student loan defaults.

(12) Disclosure to Secretary of Housing and Urban Development for Verification Purposes.

Pursuant to 42 U.S.C. 653(j)(7), information regarding an individual participating in a housing assistance program (United States Housing Act of 1937 (42 U.S.C. 1437 et seq.); 12 U.S.C. 1701s, 1701q, 1715l(d)(3), 1715l(d)(5), 1715z-1; or 42 U.S.C. 8013) may be disclosed to the Secretary of Housing and Urban Development for the purpose of verifying the employment and income of the individual and, after removal of personal identifiers, for the purpose of conducting analyses of the employment and income reporting of such individuals.

(13) Disclosure to State Unemployment Compensation Agency for Program Purposes.

Pursuant to 42 U.S.C. 653(j)(8), information on an individual for whom a state agency administering an unemployment compensation program under federal or state law has furnished the name and Social Security number, and information on such individual's employer, may be disclosed to the state agency for the purposes of administering the unemployment compensation program.

(14) Disclosure to Secretary of the Treasury for Debt Collection Purposes.

Pursuant to 42 U.S.C. 653(j)(9), information pertaining to a person who owes the United States delinquent nontax debt and whose debt has been referred to the Secretary of the Treasury in accordance with 31 U.S.C. 3711(g), may be disclosed to the Secretary of the Treasury for purposes of collecting the debt.

(15) Disclosure to State Agency for Food Stamp Program Purposes.

Pursuant to 42 U.S.C. 653(j)(10), information on an individual and the individual's employer may be disclosed to a state agency responsible for administering a supplemental nutrition assistance program under the Food and Nutrition Act of 2008 (7 U.S.C. 2011 et seq.) for the purposes of administering the program.

(16) Disclosure to the Secretary of Veterans Affairs for Verification Purposes.

Pursuant to 42 U.S.C. 653(j)(11), information about an individual applying for or receiving the following benefits, compensation or services may be disclosed to the Secretary of Veterans Affairs for the purpose of verifying the employment and income of the individual and, after removal of personal identifiers, to conduct analyses of the employment and income reporting of such individuals: (i) Needs-based pension benefits provided under 38 U.S.C. chapter 15, or under any other law administered by the Secretary of Veterans Affairs; (ii) parents' dependency and indemnity compensation provided under 38 U.S.C. 1315; (iii) health care services furnished under subsections 38 U.S.C. 1710(a)(2)(G), (a)(3), (b); or (iv) compensation paid under 38 U.S.C. chapter 11, at the 100 percent rate based solely on unemployability and without regard to the fact that the disability or disabilities are not rated as 100 percent disabling under the rating schedule.

(17) Disclosure for Law Enforcement Purpose.

Information may be disclosed to the appropriate federal, state, local, tribal, or foreign agency responsible for identifying, investigating, and prosecuting, noncustodial parents who knowingly fail to pay their support obligations and meet the criteria for Federal prosecution under 18 U.S.C. 228. The information must be relevant to the violation of criminal nonsupport, as stated in the Deadbeat Parents Punishment Act, 18 U.S.C. 228 and the disclosure must be compatible with the purpose for which the records were collected.

(18) Disclosure to Department of Justice or in Proceedings.

Records may be disclosed to support the Department of Justice, or in a proceeding before a court, adjudicative body, or other administrative body before which HHS is authorized to appear, when:

• HHS, or any component thereof; or

• Any employee of HHS in his or her official capacity; or

• Any employee of HHS in his or her individual capacity where the Department of Justice or HHS has agreed to represent the employee; or

• The United States,

is a party to litigation or has an interest in such litigation, and the use of such records by the Department of Justice or the court or adjudicative body is deemed by HHS to be relevant and necessary to the litigation; provided, however, that in each case it has been determined that the disclosure is compatible with the purpose for which the records were collected.

(19) Disclosure to Congressional Office.

Information may be disclosed to a congressional office from the record of an individual in response to a written inquiry from the congressional office made at the request of the individual.

(20) Disclosure to Contractor to Perform Duties.

Records may be disclosed to a contractor performing or working on a contract for HHS and who has a need to have access to the information in the performance of its duties or activities for HHS in accordance with law and with the contract.

(21) Disclosure in the Event of a Security Breach.

Records may be disclosed to appropriate federal agencies and Department contractors that have a need to know the information for the purpose of assisting the Department's efforts to respond to a suspected or confirmed breach of the security or confidentiality of information maintained in this system of records, provided the information disclosed is relevant and necessary for that assistance.

Disclosure to Consumer Reporting Agencies:

None.

Policies and practices for storing, retrieving, accessing, retaining and disposing of records in the system:

Storage:

Records in the NDNH are stored electronically at the Social Security Administration's National Computer Center and the OCSE Data Facility. Historical logs and system backups are stored off-site at an alternate location.

Retrievability:

Records maintained in the NDNH are retrieved by the SSN (or TIN) of the individual to whom the record pertains. Records collected and disseminated from employers and other income sources are retrieved by state FIPS codes and employer identification numbers, and records collected and disseminated from state IV-D child support enforcement agencies are retrieved by state FIPS codes.

Safeguards:

Specific administrative, technical and physical controls are in place to ensure that the records collected and maintained in the NDNH are secure from unauthorized access. Access to the records is restricted to authorized personnel who are advised of the confidentiality of the records and the civil and criminal penalties for misuse and who sign a nondisclosure oath to that effect. Personnel are provided privacy and security training before being granted access to the records and annually thereafter.

Logical access controls are in place to limit access to the records to authorized personnel and to prevent browsing. The records are processed and stored in a secure environment. All records are stored in an area that is physically safe from access by unauthorized persons at all times.

Safeguards conform to the HHS Information Security Program, http://www.hhs.gov/ocio/securityprivacy/index.html.

Retention and Disposal:

Records maintained in the NDNH are retained for 24 months after the date of entry and then deleted from the database pursuant to 42 U.S.C. 653(i)(2)(A). In accordance with 42 U.S.C. 653(i)(2)(B), OCSE shall not have access for child support enforcement purposes to quarterly wage and unemployment insurance information in the NDNH if 12 months have elapsed since the information is provided by a State Directory of New Hires pursuant to 42 U.S.C. 653A(g)(2)(B) and there has not been a match resulting from the use of such information in any information comparison. Notwithstanding these retention and disposal requirements, OCSE may retain such samples of data entered into the NDNH as OCSE may find necessary to assist in carrying out its responsibility to provide access to data in the NDNH for research purposes found by OCSE to be likely to contribute to achieving the purposes of Part A or Part D of title IV of the Act, but without personal identifiers, pursuant to 42 U.S.C. 653(i)(2)(C), (j)(5). Samples are retained only so long as necessary to complete such research. (1) Input records for authorized matching to obtain NDNH information and (2) records pertaining to income withholding collected and disseminated by OCSE are retained for 60 days. Audit logs including information such as employer identification numbers, FIPS code numbers, document tracking numbers, case identification numbers and order identifier are retained up to 5 years.

System Manager and Address:

Director, Division of Federal Systems, Office of Automation and Program Operations, Office of Child Support Enforcement, Administration for Children and Families, 370 L'Enfant Promenade 4th Floor East SW., Washington, DC 20447.

Notification Procedures:

Individuals seeking to determine whether this system of records contains information about them should address written inquiries to the System Manager. The request should include the name, telephone number and/or email address, SSN, and address of the individual, and the request must be signed by the individual to whom such information pertains. The requester's letter must provide sufficient particulars to enable the System Manager to distinguish between records on subject individuals with the same name. Verification of identity as described in HHS's Privacy Act regulations may be required. 45 CFR 5b.5.

Record Access Procedures:

Individuals seeking access to a record about them in this system of records should address written inquiries to the System Manager. The request should include the name, telephone number and/or email address, SSN, and address of the individual, and should be signed by the individual to whom such information pertains. The requester's letter must provide sufficient particulars to enable the System Manager to distinguish between records on subject individuals with the same name. Verification of identity as described in HHS's Privacy Act regulations may be required. 45 CFR 5b.5.

Contesting Record Procedures:

Individuals seeking to amend a record about them in this system of records should address the request for amendment to the System Manager. The request should (1) include the name, telephone number and/or email address, SSN, and address of the individual, and should be signed; (2) identify the system of records that the individual believes includes his or her records or otherwise provide enough information to enable the identification of the individual's record; (3) identify the information that the individual believes is not accurate, relevant, timely, or complete; (4) indicate what corrective action is sought; and (5) include supporting justification or documentation for the requested amendment. Verification of identity as described in HHS's Privacy Act regulations may be required. 45 CFR 5b.5.

Record Source Categories:

Information is obtained from departments, agencies, or instrumentalities of the United States or any state, from entities authorized to match to receive NDNH information, and from employers and other income sources.

Exemptions Claimed for the System:

None.

System Number: 09-80-0383

System Name:

OCSE Debtor File, HHS/ACF/OCSE

Security Classification:

Unclassified

System Location:

National Computer Center, Social Security Administration, Baltimore, Maryland

Categories of Individuals Covered by the System:

Individuals owing past-due child support, as indicated by a state agency administering a child support enforcement program pursuant to 42 U.S.C. 651 through 669b (Title IV, Part D, of the Social Security Act) are covered by this system.

Additional individuals whose records are contained in input files for authorized matching with records in this system are also covered by this system. These additional individuals include those claiming or receiving income or benefits, such as workers' compensation or insurance claims, settlements, awards, and payments.

Categories of Records in the System:

(1) Records pertaining to individuals owing past-due child support, as indicated by a state agency administering a child support enforcement program, including the name, Social Security Number (SSN) or Taxpayer Identification Number (TIN), of such individual, the amount of past-due child support owed by the individual, adjustments to such amount, information on each enforcement remedy applicable to the individual to whom the record pertains, as indicated by a state IV-D child support enforcement agency; the amount of past-due support collected as a result of each such remedy; and a history of updates by the state agency to the records.

(2) Records of the results of a comparison between records in the Debtor File pertaining to individuals owing past-due child support and information maintained by the Secretary of the Treasury concerning the following amounts payable to such individuals: Refunds of federal taxes; salary, wage and retirement benefits; income and benefits information; vendor payments and expense reimbursement payments and travel payments; and information pertaining to the collection of those amounts by state child support enforcement agencies.

(3) Records of the results of a comparison between records in the Debtor File pertaining to individuals owing past-due child support and information provided by a financial institution doing business in two or more states, including the name, record address, SSN (or TIN), or other identifying number of each such individual and information about any account, held by the individual and maintained at such institution, including the amounts to withhold from the account, date of withholding of the amounts, and other information pertaining to the placement of a lien or levy by a state child support enforcement agency on the account.

(4) Records pertaining to individuals claiming or receiving periodic or lump-sum workers' compensation payments (including name, record address, SSN (or TIN), claim numbers, and workers' compensation insurers) which are furnished by a workers' compensation agency and records of the results of a comparison between those records and records in the Debtor File pertaining to individuals owing past-due child support.

(5) Records pertaining to individuals whose information is maintained by an insurer (or its agent) concerning insurance claims, settlements, awards, and payments and the results of a comparison between records in the Debtor File pertaining to individuals owing past-due child support and income and benefits information, including lump sum payment information and information maintained by insurers (or their agents) concerning insurance claims, settlements, awards, and payments and information pertaining to state child support enforcement agency withholding of these amounts.

(6) Records pertaining to individuals claiming or receiving other periodic or lump-sum state or federal benefits or other income and match results between those individuals and individuals owing past-due support.

Authority for Maintenance of the System:

42 U.S.C. 652, 653, 664, and 666.

Purpose(s):

The primary purpose of the Debtor File is to improve states' abilities to collect past-due child support. The Debtor File facilitates OCSE's execution of its responsibility to perform the following duties: Transmit to the Secretary of State a certification by a state IV-D child support agency that an individual owes arrearages of child support in an amount exceeding $2,500 for action (with respect to denial, revocation or limitation of passports) pursuant to 42 U.S.C. 652(k)(1); through the Federal Parent Locator Service (FPLS), to aid state IV-D agencies and financial institutions doing business in two or more states in operating a data match system pursuant to 42 U.S.C. 652(l) (see also 42 U.S.C. 666(a)(17)(A)(i)) and to aid in the transmission of information pertaining to a lien or levy of financial institution accounts located as a result of that data match system authorized under 42 U.S.C. 652(a)(7), 666(c)(1)(G), and 666(c)(1)(G)(ii); through the FLPS, to compare information regarding individuals owing past-due support with income and benefits information of such individuals, including lump sum payment information, and furnish information resulting from the data matches to the state agencies responsible for collecting child support from the individuals pursuant to 42 U.S.C. 652(a)(7), 653(a)(2), 666(a)(4) and 666(c)(1)(G); through the FPLS, to compare information regarding individuals owing past-due support with specified information maintained by insurers (or their agents) and furnish information resulting from the data matches to the state agencies responsible for collecting child support from the individuals pursuant to 42 U.S.C. 652(l) (to be redesignated § 652(m)); to assist the Secretary of the Treasury in withholding from refunds of federal taxes paid an amount owed by an individual owing past-due child support pursuant to 42 U.S.C. 664; and to assist state IV-D child support enforcement agencies in the collection of past-due child support through the administrative offset of certain federal payments pursuant to the Debt Collection Improvement Act of 1996 (Pub. L. 104-134), Executive Order 13019, and 31 CFR part 285; and to improve states' abilities to collect past-due and current support from individuals who are owed workers' compensation benefits pursuant to 42 U.S.C. 653(e)(1); 666(a)(1)(A), (b)(1) and (8), and (c)(1)(F) and (G); and 653(b)(1)(B). OCSE operates the FPLS pursuant to 42 U.S.C. 652(a)(9) and 42 U.S.C. 653(a)(1).

Routine Uses of Records Maintained in the System, Including Categories of Users and the Purposes of Such Uses:

These routine uses specify circumstances under which ACF may disclose information from this system of records without the consent of the data subject. Each proposed disclosure of information under these routine uses will be evaluated to ensure that the disclosure is legally permissible, including but not limited to ensuring that the purpose of the disclosure is compatible with the purpose for which the information was collected. Any information defined as “return” or “return information” under 26 U.S.C. 6103 (Internal Revenue Code) will not be disclosed unless authorized by a statute, the Internal Revenue Service (IRS) or IRS regulations.

(1) Disclosure to the Treasury to Withhold Past-Due Support.

Pursuant to 42 U.S.C. 664 and the Debt Collection Improvement Act of 1996 (Pub. L. 104-134), information pertaining to an individual owing past-due child support may be disclosed to the Secretary of the Treasury for the purpose of withholding the past-due support from amounts payable as refunds of federal taxes; salary, wage and retirement payments; vendor payments; and expense reimbursement payments and travel payments.

(2) Disclosure to State Department for Passport Purposes.

Pursuant to 42 U.S.C. 652(k), information pertaining to an individual owing past-due child support in a specified amount, as certified by a state child support enforcement agency, may be disclosed to the Secretary of State for the purpose of revoking, restricting, limiting, or denying a passport to the individual.

(3) Disclosure to Financial Institution to Collect Past-Due Support.

Pursuant to 42 U.S.C. 652(l), information pertaining to an individual owing past-due child support may be disclosed to a financial institution doing business in two or more states to identify an individual who maintains an account at the institution for the purpose of collecting past-due support. Information pertaining to requests by the state child support enforcement agencies for the placement of a lien or levy of such accounts may also be disclosed.

(4) Disclosure to Insurer to Collect Past-Due Support.

Pursuant to 42 U.S.C. 652(l) (to be redesignated (m)), information pertaining to an individual owing past-due child support may be disclosed to an insurer (or its agent) to identify an individual with an insurance claim, settlement, award or payment for the purpose of collecting past-due support.

(5) Disclosure to Workers' Compensation Agencies to Collect Current and Past-Due Support.

Pursuant to 42 U.S.C. 653(e)(1); 666(a)(1)(A), (b)(1) and (8), and (c)(1)(F) and (G), information pertaining to an individual owing past-due child support may be disclosed to a workers' compensation agency to identify an individual who is applying for or receiving periodic or lump-sum workers' compensation for the purpose of collecting current and past-due support.

(6) Disclosure of Treasury Information to State Child Support Enforcement Agency of Comparison Information for Assistance in Collecting Past-Due Support.

Pursuant to 42 U.S.C. 664 and the Debt Collection Improvement Act 1996 (Pub. L. 104-134), the results of a comparison of information pertaining to an individual owing past-due child support and information maintained by the Secretary of Treasury pertaining to amounts payable to the individual for refunds of federal taxes; salary, wage and retirement benefits; vendor payments; expense reimbursement payments; or travel payments may be disclosed to a state IV-D child support agency for the purpose of assisting state agencies in collecting past-due support.

(7) Disclosure of Financial Institution Information to State Child Support Enforcement Agency of Comparison Information for Assistance in Collecting Past-Due Support.

Pursuant to 42 U.S.C. 652(l), the results of a comparison between information pertaining to an individual owing past-due child support and information provided by multistate financial institutions may be disclosed to a state child support enforcement agency for the purpose of assisting state agencies-in collecting past-due support. Information pertaining to responses to requests by the state child support enforcement agencies for the placement of a lien or levy of such accounts may also be disclosed.

(8) Disclosure of Insurance Information to State Child Support Enforcement Agency for Assistance in Collecting Past-Due Support.

Pursuant to 42 U.S.C. 652(l) (to be redesignated subsection (m)), the results of a comparison between information pertaining to an individual owing past-due child support and information maintained by an insurer (or its agent) concerning insurance claims, settlements, awards, and payments may be disclosed to a state IV-D child support enforcement agency for the purpose of assisting state agencies in collecting past-due support.

(9) Disclosure of Workers' Compensation Information to State Child Support Enforcement Agency for Assistance in Collecting Past-Due and Current Support.

Pursuant to 42 U.S.C. 653(b)(1)(B), the results of a comparison between the information pertaining to an individual owing past-due child support and information maintained by a workers' compensation agency concerning workers' compensation payments may be disclosed to a state IV-D child support enforcement agency for the purpose of assisting states in collecting past-due support and any current support owed by the individual.

(10) Disclosure of Income and Benefits Information to State Child Support Enforcement Agency for Assistance in Collecting Past-Due and Current Support.

Pursuant to 42 U.S.C. 652(a)(7), 653(a)(2), 666(a)(4) and 666(c)(1)(G), the results of a comparison between the information pertaining to an individual owing past-due child support and income and benefits information of such individuals, including lump sum payment information, may be disclosed for the purpose of assisting states in collecting past-due support and any current support owed by the individual.

(11) Disclosure for Law Enforcement Purpose.

Information may be disclosed to the appropriate federal, state, local, tribal, or foreign agency responsible for identifying, investigating, and prosecuting noncustodial parents who knowingly fail to pay their support obligations and meet the criteria for federal prosecution under 18 U.S.C. 228. The information must be relevant to the violation of criminal nonsupport, as stated in the Deadbeat Parents Punishment Act, 18 U.S.C. 228 and the disclosure must be compatible with the purpose for which the records were collected.

(12) Disclosure to Department of Justice or in Proceedings.

Information may be disclosed to support the Department of Justice, or in a proceeding before a court, or adjudicative body, or other administrative body before which HHS is authorized to appear, when:

• HHS, or any component thereof; or

• Any employee of HHS in his or her official capacity; or

• Any employee of HHS in his or her individual capacity where the Department of Justice or HHS has agreed to represent the employee; or

• The United States, if HHS determines that litigation is likely to affect HHS or any of its components, is a party to litigation or has an interest in such litigation, and the use of such records by the Department of Justice or the court or other adjudicative body is deemed by HHS to be relevant and necessary to the litigation; provided, however, that in each case it has been determined that the disclosure is compatible with the purpose for which the records were collected.

(13) Disclosure to Contractor to Perform Duties.

Information may be disclosed to a contractor performing or working on a contract for HHS and who has a need to have access to the information in the performance of its duties or activities for HHS in accordance with law and with the contract.

(14) Disclosure to Congressional Office.

Information may be disclosed to a congressional office from the record of an individual in response to a written inquiry from the congressional office made at the request of the individual.

(15) Disclosure in the Event of a Security Breach.

Information may be disclosed to appropriate federal agencies and Department contractors that have a need to know the information for the purpose of assisting the Department's efforts to respond to a suspected or confirmed breach of the security or confidentiality of information maintained in this system of records, provided the information disclosed is relevant and necessary for that assistance.

Disclosure to Consumer Reporting Agencies:

None.

Policies and practices for storing, retrieving, accessing, retaining and disposing of records in the system:

Storage:

Records in the Debtor File are stored electronically at the Social Security Administration's National Computer Center. Historical logs and system backups are stored offsite at an alternate location.

Retrievability:

Records maintained in the Debtor File are retrieved by the SSN or TIN of the individual to whom the record pertains; provided, however, that for the purpose of comparing information in the Debtor File with information provided by workers' compensation agencies or insurers (or their agents), records in the Debtor File may be retrieved by the name of the individual and either the date of birth or the address of the individual. For the purpose of collecting and disseminating information provided by state child support agencies and financial institutions, information is retrieved by the FEIN of the financial institution and the state FIPS code of the state child support agency and, where requested, by the state child support case identification number.

Safeguards:

Specific administrative, technical and physical controls are in place to ensure that the records collected and maintained in the Debtor File are secure from unauthorized access. Access to the records is restricted to authorized personnel who are advised of the confidentiality of the records and the civil and criminal penalties for misuse and who sign a nondisclosure oath to that effect. Personnel are provided privacy and security training before being granted access to the records and annually thereafter.

Logical access controls are in place to limit access to the records to authorized personnel and to prevent browsing. The records are processed and stored in a secure environment. All records are stored in an area that is physically safe from access by unauthorized persons at all times.

Safeguards conform to the HHS Information Security Program, http://www.hhs.gov/ocio/securityprivacy/index.html.

Retention and Disposal:

Records maintained in the Debtor File are retained until the IV-D child support case is in deleted status and there has been no activity on the case for seven years and are then deleted. Records pertaining to a financial institution or an insurer (or its agent) are retained for 60 days and are then deleted; provided, however, that after removal of personal identifiers, the results of a comparison may be retained for such period necessary to conduct analyses for the purpose of estimating potential collections of past-due support by state child support enforcement agencies and are then deleted. OCSE retains information furnished by workers' compensation agencies for only a period necessary to complete the processing of the file, not to exceed 60 days from the date OCSE received the file. A copy of response file records provided to state child support enforcement agencies is retained by OCSE for 60 days and is then deleted. A copy of records matched is retained by OCSE for the purpose of electronically filtering and suppressing the transmission of redundant information for one year and is then deleted.

System Manager and Address:

Director, Division of Federal Systems, Office of Automation and Program Operations, Office of Child Support Enforcement, Administration for Children and Families, Department of Health and Human Services, 370 L'Enfant Promenade 4th Floor East SW., Washington, DC 20447.

Notification Procedures:

Individuals seeking to determine whether this system of records contains information about them should address written inquiries to the System Manager. The request should include the name, telephone number and/or email address, SSN, and address of the individual, and the request must be signed. The requester's letter must provide sufficient particulars to enable the System Manager to distinguish between records on subject individuals with the same name. Verification of identity as described in HHS's Privacy Act regulations may be required. 45 CFR 5b.5

Record Access Procedures:

Individuals seeking access to a record about them in this system of records should address written inquiries to the System Manager. The request should include the name, telephone number and/or email address, SSN, and address of the individual, and should be signed. The requester's letter must provide sufficient particulars to enable the System Manager to distinguish between records on subject individuals with the same name. Verification of identity as described in HHS's Privacy Act regulations may be required. 45 CFR 5b.5

Contesting Record Procedures:

Individuals seeking to amend a record about themselves in this system of records should address the request for amendment to the System Manager. The request should (1) include the name, telephone number and/or email address, SSN, and address of the individual, and should be signed; (2) identify the system of records that the individual believes includes his or her records or otherwise provide enough information to enable the identification of the individual's record; (3) identify the information that the individual believes is not accurate, relevant, timely, or complete; (4) indicate what corrective action is sought; and (5) include supporting justification or documentation for the requested amendment. Verification of identity as described in HHS's Privacy Act regulations may be required. 45 CFR 5b.5

Record Source Categories:

Information is obtained from departments, agencies, or instrumentalities of the United States or any state and from multistate financial institutions and insurers (or their agents).

Exemptions Claimed for the System:

None.

System Number: 09-80-0385 (formerly 09-80-0202)

System Name:

OCSE Federal Case Registry of Child Support Orders (FCR), HHS/ACF/OCSE

Security Classification:

Unclassified

System Location:

National Computer Center, Social Security Administration, Baltimore, Maryland; OCSE Data Facility, Manassas, Virginia

Categories of Individuals Covered by the System:

Individuals involved in child support cases in which services are being provided by the state IV-D child support agencies, and/or individuals who are subject to child support orders established or modified on or after October 1, 1998, and the children of such individuals. Individuals whose information is collected and/or disseminated through the system, as part of authorized technical assistance or matching, including but not limited to individuals involved in a child and family services' program provided by the state IV-B agency, and individuals involved in a state IV-E foster care and adoption assistance program and programs administered by other authorized agencies and entities specified in the routine uses of records maintained in this system.

Categories of Records in the System:

The FCR maintains, collects, and disseminates several categories of records. The FCR collects and maintains records provided by state child support registries. These records include abstracts of support orders and information from child support cases. The records may include the following information: Name, Social Security number (SSN), state case identification number, state Federal Information Processing Standard (FIPS) code, county code, case type (cases in which services are being provided by the state child support agencies under Title IV-D of the Social Security Act and those cases in which services are not being provided by the state child support agencies), sex, date of birth, mother's maiden name, father's name, participant type (custodial party, non-custodial parent, putative father, child), family violence indicator (domestic violence or child abuse), order indicator, locate request type, and requested locate source. These records are maintained within the FCR and are regularly compared (matched) to the National Directory of New Hires (NDNH) and other federal agencies' databases to locate information for the state child support agencies or other authorized persons.

State child support agencies and other authorized persons can directly request information (referred to as locate requests) from the FPLS, which includes the FCR system of records, and the National Directory of New Hires system of records. The FPLS must seek the requested information from other federal agencies. When state child support agencies or other authorized persons request information from the FPLS, the request is transmitted to the FPLS via the FCR. Upon receipt of such requests, or as a result of the regular comparisons of the FCR with the NDNH and other agencies' databases, the records located pertaining to the requests are disseminated to the requestor via the FCR. The records collected and disseminated, depending upon the requestor's specific authority, may include information retrieved from the FCR, from the NDNH, or from other federal or state agencies. Records from the NDNH and other agencies disseminated through the FCR may include categories of information such as name, SSN (or TIN), address, phone number, employer, employment status and wages, retirement status and pay, assets, military status and pay, federal benefits status and amount, representative payees, unemployment status and amount, children's health insurance, incarceration status, financial institution accounts, assets, and date of death. The FCR also contains information related to those categories of records; for example, the date of receipt of federal benefits.

Additional categories of information include those contained in the following documents: judicial or administrative orders pertaining to child support and medical support; an administrative subpoena; an affidavit in support of establishing paternity; a financial statement; a medical support notice; a notice of a lien; and an income withholding notice. The FCR also maintains: (1) Records (logs) of transactions involving the receipt of requests and the dissemination of requested information; (2) copies of the disseminated information for audit purposes; and (3) copies of certain disseminated information for the purpose of electronically filtering and suppressing the transmission of redundant information.

Authority for Maintenance of the System:

42 U.S.C. 652(a)(7) and (9), 653(a)(1), (h), and (j)(3)

Purpose(s):

The Office of Child Support Enforcement (OCSE) uses the FCR primarily to assist states in administering programs under 42 U.S.C. 651 to 669b (Title IV-D of the Social Security Act, Child Support and Establishment of Paternity) and programs funded under 42 U.S.C. 601 to 619 (Title IV-A of the Social Security Act, Temporary Assistance for Needy Families). Additional purposes are specified in sections 453 and 463 of the Social Security Act. (42 U.S.C. 653, 663).

Routine Uses of Records Maintained in the System, Including Categories of Users and the Purpose of Such Uses:

These routine uses specify circumstances under which ACF may disclose information from this system of records without the consent of the data subject. Each proposed disclosure of information under these routine uses will be evaluated to ensure that the disclosure is legally permissible, including but not limited to ensuring that the purpose of the disclosure is compatible with the purpose for which the information was collected. If any record contains a “family violence indicator” associated to the record by state child support agencies, if there is reasonable evidence of domestic violence or child abuse and disclosure could be harmful to the party or the child, the record may only be disclosed as determined by a court as provided in 42 U.S.C. 653(b)(2).

Any information defined as “return” or “return information” under 26 U.S.C. 6103 (Internal Revenue Code) will not be disclosed unless authorized by a statute, the Internal Revenue Service (IRS) or IRS regulations.

(1) Disclosure for Child Support Purposes.

Pursuant to 42 U.S.C. 653(a)(2), 653(b)(1)(A), and 653(c), information about the location of an individual or information that would facilitate the discovery of the location of an individual may be disclosed, upon request filed in accordance with law, to an “authorized person,” as defined in 42 U.S.C. 653(c), for the purpose of establishing parentage or establishing, setting the amount of, modifying or enforcing child support obligations. Information disclosed may include information about an individual's wages (or other income) from, and benefits of, employment, and information on the type, status, location, and amount of any assets of, or debts owed by or to, the individual.

(2) Disclosure to any Department, Agency, or Instrumentality of the United States or of any State to Locate an Individual or Information Pertaining to an Individual.

Pursuant to 42 U.S.C. 653(e)(1), information from the FCR (names and SSNs) may be disclosed to any department, agency, or instrumentality of the United States or of any state on order to obtain information for an “authorized person” as defined in 42 U.S.C. 653(c) which pertains to an individual's location, wages (or other income) from, and benefits of, employment (including rights to or enrollment in group health care coverage); or the type, status, location, and amount of any assets of, or debts owed by or to, the individual.

(3) Disclosure for Purposes Related to the Unlawful Taking or Restraint of a Child or Child Custody or Visitation.

Pursuant to 42 U.S.C. 653(b)(1)(A), upon request of an “authorized person,” as defined in 42 U.S.C. 663(d)(2), or upon request of the Department of Justice, Office of Juvenile Justice and Delinquency Prevention, pursuant to 42 U.S.C. 663(f), information as to the most recent address and place of employment of a parent or child may be disclosed for the purpose of enforcing any state or federal law with respect to the unlawful taking or restraint of a child or making or enforcing a child custody or visitation determination.

(4) Disclosure to the Social Security Administration for Verification.

Pursuant to 42 U.S.C. 653(j)(1), the names, SSNs, and birth dates of individuals about who information is maintained may be disclosed to the Social Security Administration to the extent necessary for verification of the information by the Social Security Administration.

(5) Disclosure for Locating an Individual for Paternity Establishment or in Connection with a Support Order.

Pursuant to 42 U.S.C. 653(j)(2)(B), the results of a comparison between records in this system and the National Directory of New Hires may be disclosed to the state IV-D child support enforcement agency responsible for the case for the purpose of locating an individual in a paternity establishment case or a case involving the establishment, modification, or enforcement of a support order.

(6) Disclosure to State Agencies Operating Specified Programs.

Pursuant to 42 U.S.C. 653(j)(3), information may be disclosed to a state to the extent and with the frequency that the Secretary determines to be effective in assisting the state to carry out its responsibilities under child support programs operated under 42 U.S.C. 651 through 669b (Title IV-D of the Social Security Act, Child Support and Establishment of Paternity), child and family services programs operated under 42 U.S.C. 621 through 629m (Title IV-B of the Social Security Act), Foster Care and Adoption Assistance programs operated under 42 U.S.C. 670 through 679c (Title IV-E of the Social Security Act) and assistance programs funded under 42 U.S.C. 601 through 619 (Title IV-A of the Social Security Act, Temporary Assistance for Needy Families).

(7) Disclosure to Department of State under International Child Abduction Remedies Act.

Pursuant to 42 U.S.C. 653(b)(1) and 663(e), the most recent address and place of employment of a parent or child may be disclosed upon request to the Department of State, in its capacity as the Central Authority designated in accordance with section 7 of the International Child Abduction Remedies Act, 42 U.S.C. 11601 et seq., for the purpose of locating the parent or child on behalf of an applicant.

(8) Disclosure to Secretary of the Treasury for Certain Tax Purposes.

Pursuant to 42 U.S.C. 653(h)(3), information may be disclosed to the Secretary of Treasury for the purpose of administering sections of the Internal Revenue Code which grant tax benefits based on support or residence of children.

(9) Disclosure for Authorized Research Purposes.

Pursuant to 42 U.S.C. 653(j)(5), data in the FCR may be disclosed, without personal identifiers, for research purposes found by the Secretary to be likely to contribute to achieving the purposes of 42 U.S.C. 651 through 669b (Title IV-D of the Social Security Act, Child Support and Establishment of Paternity) and 42 U.S.C. 601 through 619 (Title IV-A of the Social Security Act, Temporary Assistance for Needy Families).

(10) Disclosure to a Foreign Reciprocating Country for Child Support Purposes.

Pursuant to 42 U.S.C. 653(a)(2) and 659a(c)(2), information on the State of residence of an individual sought for support enforcement purposes in cases involving residents of the United States and residents of foreign countries that are the subject of a declaration may be disclosed to a foreign reciprocating country.

(11) Disclosure for Law Enforcement Purpose.

Information may be disclosed to the appropriate federal, state, local, tribal, or foreign agency responsible for identifying, investigating, and prosecuting noncustodial parents who knowingly fail to pay their support obligations and meet the criteria for federal prosecution under 18 U.S.C. 228. The information must be relevant to the violation of criminal nonsupport, as stated in the Deadbeat Parents Punishment Act, 18 U.S.C. 228 and the disclosure must be compatible with the purpose for which the records were collected.

(12) Disclosure to Congressional Office.

Information may be disclosed to a congressional office from the record of an individual in response to a written inquiry from the congressional office made at the request of the individual.

(13) Disclosure to Department of Justice or in Proceedings.

Information may be disclosed to support the Department of Justice, or in a proceeding before a court, adjudicative body, or other administrative body before which HHS is authorized to appear, when:

• HHS, or any component thereof; or

• Any employee of HHS in his or her official capacity; or

• Any employee of HHS in his or her individual capacity where the Department of Justice or HHS has agreed to represent the employee; or

• The United States, if HHS determines that litigation is likely to affect HHS or any of its components, is a party to litigation or has an interest in such litigation, and the use of such records by the Department of Justice or HHS is deemed by HHS to be relevant and necessary to the litigation provided, however, that in each case it has been determined that the disclosure is compatible with the purpose for which the records were collected.

(14) Disclosure to Contractor to Perform Duties.

Information may be disclosed to a contractor performing or working on a contract for HHS and who has a need to have access to the information in the performance of its duties or activities for HHS in accordance with law and with the contract.

(15) Disclosure in the Event of a Security Breach.

Information may be disclosed to appropriate federal agencies and Department contractors that have a need to know the information for the purpose of assisting the Department's efforts to respond to a suspected or confirmed breach of the security or confidentiality of information maintained in this system of records, provided the information disclosed is relevant and necessary for that assistance.

(16) Disclosure to Consumer Reporting Agencies.

None.

Policies and Practices for Storing, Retrieving, Accessing, Retaining, and Disposing of Records in the System:

Storage:

Records are stored electronically at the Social Security Administration's National Computer Center and the OCSE Data Facility. Historical logs and system backups are stored offsite at an alternate location.

Retrievability:

Records are retrieved by an identification number assigned to a child support case by the state child support enforcement agency, an SSN or TIN of an individual, a transaction serial number, or by a name and date of birth of an individual.

Safeguards:

Specific administrative, technical and physical controls are in place to ensure that the records collected and maintained in the FCR are secure from unauthorized access. Access to the records is restricted to authorized personnel who are advised of the confidentiality of the records and the civil and criminal penalties for misuse and who sign a nondisclosure oath to that effect. Personnel are provided privacy and security training before being granted access to the records and annually thereafter. Logical access controls are in place to limit access to the records to authorized personnel and to prevent browsing. The records are processed and stored in a secure environment. All record are stored in an area that is physically safe from access by unauthorized persons at all times.

Safeguards conform to the HHS Information Security Program, http://www.hhs.gov/ocio/securityprivacy/index.html.

Retention and Disposal:

(1) Records provided from state child support agencies.

(a) Electronic records furnished by the state child support agency containing child support case and order information (input files) are retained for 60 days and then deleted.

(b) State agency records (as posted to the FCR) remain within the FCR until removed, upon notification by the state agency that the case is closed, provided that, upon request, a sample may be retained for research purposes found by OCSE to be likely to contribute to achieving the purposes of child support programs or the TANF program, but without personal identifiers.

(c) Records pertaining to closed cases are archived on the fiscal year basis and retained for two years. Family violence indicators are removed from the individual's record, upon request by the state that initiated the indicator.

(2) Locate requests and match results.

(a) Locate requests submitted by state child support agencies and other authorized persons and match results are retained for 60 days and are then deleted.

(b) Audit trail records of locate requests and disclosures of match results pursuant to those requests, which include indications of which federal agencies were contacted for locate information, whether information was located, and the type(s) of information returned to the requesting entity, are archived once a year based on the fiscal year. The records are retained for two completed fiscal years and then destroyed. These records indicate the type of information located for the authorized user, not the information itself.

(3) Match results generated as a result of FCR-to-FCR comparisons which locate individuals who are participants in child support cases or orders in more than one state are transmitted to the relevant states. Copies of FCR-to-FCR match results are retained for 60 days and then deleted.

(4) Any record relating or potentially relating to a fraud or abuse investigation or a pending or ongoing legal action, including a class action, is retained until conclusion of the investigation or legal action.

(5) Copies of the FCR records transmitted to the Secretary of the Treasury for the purpose of administering sections of the Internal Revenue Code which grant tax benefits based on support or residence of children (routine use 8) are retained for one year and then deleted.

(6) Records collected or disseminated for technical assistance to child support agencies or other authorized agencies or entities are retained for 60 days to five years, and audit data is retained for a period of up to two years.

System Manager and Address:

Director, Division of Federal Systems, Office of Automation and Program Operations, Office of Child Support Enforcement, Administration for Children and Families, Department of Health and Human Services, 370 L'Enfant Promenade SW., 4th Floor East, Washington, DC 20447.

Notification Procedures:

Individuals seeking to determine whether this system of records contains information about them should address written inquiries to the System Manager. The request should include the name, telephone number and/or email address, SSN, and address of the individual, and the request must be signed by the individual to whom such information pertains. The requester's letter must provide sufficient particulars to enable the System Manager to distinguish between records on subject individuals with the same name. Verification of identity as described in HHS's Privacy Act regulations may be required. 45 CFR 5b.5.

Record Access Procedures:

Individuals seeking access to a record about them in this system of records should address written inquiries to the System Manager. The request should include the name, telephone number and/or email address, SSN, and address of the individual, and should be signed by the individual to whom such information pertains. The requester's letter must provide sufficient particulars to enable the System Manager to distinguish between records on subject individuals with the same name. Verification of identity as described in HHS's Privacy Act regulations may be required. 45 CFR 5b.5.

Contesting Record Procedures:

Individuals seeking to amend a record about them in this system of records should address the request for amendment to the System Manager. The request should (1) include the name, telephone number and/or email address, SSN, and address of the individual, and should be signed by the individual to whom such information pertains; (2) identify the system of records that the individual believes includes his or her records or otherwise provide enough information to enable the identification of the individual's record; (3) identify the information that the individual believes is not accurate, relevant, timely, or complete; (4) indicate what corrective action is sought; and (5) include supporting justification or documentation for the requested amendment. Verification of identity as described in HHS's Privacy Act regulations may be required. 45 CFR 5b.5.

Record Source Categories:

Records maintained within the FCR are furnished by state child support enforcement agencies. Records disseminated from the FCR for the purpose of providing locate information from the NDNH and other federal agencies are furnished by departments, agencies, or instrumentalities of the United States or any state, employers, financial institutions, and insurers or their agents.

Exemptions Claimed for the System:

A rulemaking is pending publication to add this system to the list of exempt systems in HHS regulations implementing the Privacy Act (45 CFR 5b, at § 5b.11), and that exemption will be effective upon publication of a Final Rule. The Final Rule will, pursuant to 5 U.S.C. 552a(k)(5), exempt the portions of this system consisting of investigatory material compiled for law enforcement purposes from the requirements in subsections (c)(3) and (d) of the Privacy Act (5 U.S.C. 552a(c)(3) and (d)), subject to the limitations set forth in subsection (k)(5) and to the limitation in 42 U.S.C. 653(b)(2).

Case files marked with the Family Violence Indicator (FVI) (i.e., indicating there is reasonable evidence of domestic violence or child abuse) are de facto exempt from the Privacy Act's notification, access and accounting requirements, by virtue of the statutory prohibitions in § 653(b)(2) of the Social Security Act (42 U.S.C. 653(b)(2)). Section 653(b)(2) prohibits disclosure of case files marked with the FVI to anyone other than a court or an agent of the court pursuant to section 653(b)(2)(B), to avoid harm to the custodial parent or the child of such parent.

System Number: 09-80-0387

System Name:

Federal Parent Locator Service Child Support Services Portal, HHS/ACF/OCSE

Security Classification:

Unclassified

System Location:

OCSE Data Facility, Manassas, Virginia

Categories of Individuals Covered by the System:

OCSE employees and contractors, and employees of states, financial institutions, insurance companies, federal agencies and other employers who have registered to access the system and its services for the purpose(s) of exchanging information to support electronic income withholding orders process (also referred to as e-IWO), to identify financial holdings, to locate parents or other responsible parties, to intercept tax refunds and administrative payments or to deny or reinstate a U.S. passport for a noncustodial parent owing past-due child support.

Categories of Records in the System:

Information relating to registration requests by individuals seeking access to the portal and its services, including the individual's name, Social Security number (SSN), date of birth, and the address and Federal Employer Identification Number (FEIN) of the individual's employer.

Authority for Maintenance of the System:

42 U.S.C. 652(a)(7) and (9) and 653(a)(1)

Purpose(s):

To validate eligibility for, and maintain an official registry file that identifies individuals and organizations, including third-parties conducting business on behalf of another business or organization that apply for and are granted access privileges to the FPLS Child Support Services Portal and its services.

Routine Uses of Records Maintained in the System, Including Categories of Users and the Purposes of Such Uses:

These routine uses specify circumstances under which ACF may disclose information from this system of records without the consent of the data subject. Each proposed disclosure of information under these routine uses will be evaluated to ensure that the disclosure is legally permissible, including but not limited to ensuring that the purpose of the disclosure is compatible with the purpose for which the information was collected.

Any information defined as “return” or “return information” under 26 U.S.C. 6103 (Internal Revenue Code) will not be disclosed unless authorized by a statute, the Internal Revenue Service (IRS), or IRS regulations.

(1) Disclosure to Department of Justice or in Proceedings.

Records may be disclosed to support the Department of Justice, or in proceedings before a court, or adjudicative body, or other administrative body before which HHS is authorized to appear, when:

• HHS, or any component thereof; or

• 2. Any employee of HHS in his or her official capacity; or

• 3. Any employee of HHS in his or her individual capacity where the Department of Justice or HHS has agreed to represent the employee; or

• 4. The United States, is a party to litigation or has an interest in such litigation, and the use of such records by the Department of Justice or court or adjudicative body is deemed by HHS to be relevant and necessary to the litigation; provided, however, that in each case it has been determined that the disclosure is compatible with the purpose for which the records were collected.

(2) Disclosure to Congressional Office.

Information may be disclosed to a congressional office from the record of an individual in response to a written inquiry from the congressional office made at the request of the individual.

(3) Disclosure to Contractor to Perform Duties.

Records may be disclosed to a contractor performing or working on a contract for HHS and who has a need to have access to the information in the performance of its duties or activities for HHS in accordance with law and with the contract.

(4) Disclosure in the Event of a Security Breach.

Records may be disclosed to appropriate federal agencies and Department contractors that have a need to know the information for the purpose of assisting the Department's efforts to respond to a suspected or confirmed breach of the security or confidentiality of information maintained in this system of records, provided the information disclosed is relevant and necessary for that assistance.

(5) Disclosure to Consumer Reporting Agencies. None.

Policies and Practices for Storing, Retrieving, Accessing, Retaining, and Disposing of Records in the System:

Storage:

Records in the system are stored electronically at the OCSE Data Facility.

Retrievability:

Records are retrieved by the Social Security Number of the individual to whom the record pertains.

Safeguards:

Specific administrative, technical, and physical controls are in place to ensure that the records collected and maintained in the FPLS Child Support Services Portal are secure from unauthorized access. Access to the records is restricted to authorized personnel who are advised of the confidentiality of the records and the civil and criminal penalties for misuse and who sign a nondisclosure oath to that effect. Personnel are provided privacy and security training before being granted access to the records and annually thereafter. Logical access controls are in place to limit access to the records to authorized personnel and to prevent browsing. The records are processed and stored in a secure environment. The individual's SSN is encrypted, and access to, and viewing of, the SSN is restricted to designated employees and contractors of OCSE solely for the purpose of verifying the identity of a registrant or a user of the portal. All records are stored in an area that is physically safe from access by unauthorized persons at all times. Safeguards conform to the HHS Information Security Program, http://www.hhs.gov/ocio/securityprivacy/index.html.

Retention and Disposal:

Electronic records are deleted when/if OCSE determines that the records are no longer needed for administrative, audit, legal, or operational purposes, and in accordance with records schedules approved by the National Archives and Records Administration. Approved disposal methods for electronic records and media include overwriting, degaussing, erasing, disintegration, pulverization, burning, melting, incineration, shredding, or sanding.

System Manager and Address:

Director, Division of Federal Systems, Office of Automation and Program Operations, Office of Child Support Enforcement, Administration for Children and Families, 370 L'Enfant Promenade SW., 4th Floor East, Washington, DC 20447.

Notification Procedures:

Individuals seeking to determine whether this system of records contains information about themselves should address written inquiries to the System Manager. The request should include the name, telephone number and/or email address, SSN, and address of the individual, and the request must be signed. The requester's letter must provide sufficient particulars to enable the System Manager to distinguish between records on subject individuals with the same name. Verification of identity as described in HHS's Privacy Act regulations may be required. 45 CFR 5b.5.

Record Access Procedures:

Individuals seeking access to a record about them in this system of records should address written inquiries to the System Manager. The request should include the name, telephone number and/or email address, Social Security number (SSN), and address of the individual, and should be signed by the individual to whom such information pertains. The requester's letter must provide sufficient particulars to enable the System Manager to distinguish between records on subject individuals with the same name. Verification of identity as described in HHS's Privacy Act regulations may be required. 45 CFR 5b.5

Contesting Record Procedures:

Individuals seeking to amend a record about them in this system of records should address the request for amendment to the System Manager. The request should (1) include the name, telephone number and/or email address, Social Security number (SSN), and address of the individual, and should be signed by the individual to whom such information pertains; (2) identify the system of records that the individual believes includes his or her records or otherwise provide enough information to enable the identification of the individual's record; (3) identify the information that the individual believes is not accurate, relevant, timely, or complete; (4) indicate what corrective action is sought; and (5) include supporting justification or documentation for the requested amendment. Verification of identity as described in HHS's Privacy Act regulations may be required. 45 CFR 5b.5

Record Source Categories:

Information is obtained from individuals and organizations, including third-parties conducting business on behalf of a business or organization, that apply for access privileges to the FPLS Child Support Services Portal and its services.

Exemptions Claimed for the System:

None.

[FR Doc. 2015-07440 Filed 4-1-15; 8:45 am]

BILLING CODE 4184-42-P